DEPARTMENT OF LABOR

DEPARTMENT OF HOUSING AND URBAN DEVELOPMENT

[SGA 03-15]

Ending Chronic Homelessness Through Employment and Housing

A WorkFORCE (Working for Freedom, Opportunity and Real Choice through Community Employment) action cooperative agreement sponsored by the Office of Disability Employment Policy, the Employment and Training Administration, and the Veterans Employment and Training Service of the U.S. Department of Labor (DOL), in combination with a permanent housing grant sponsored by the Office of Special Needs, U.S. Department of Housing and Urban Development (HUD).

AGENCIES: Office of Disability Employment Policy, U.S. Department of Labor; and Office of Special Needs, U.S. Department of Housing and Urban Development.

ACTION: Notice of availability of funds; solicitation for both cooperative agreement and grant applications. (SGA 03-15)

This notice contains all of the necessary information and forms needed to apply for both the DOL Cooperative Agreement funding and the HUD permanent housing grants, in combination. (SGA 03-15)

SUMMARY: The U.S. Department of Labor (DOL), Office of Disability Employment Policy (ODEP), in cooperation with the Employment and Training Administration (ETA) and the Veterans Employment and Training Service (VETS), announces the availability of $2.5 million to award up to 4 Cooperative Agreements: Ending Chronic Homelessness through Employment and Housing Cooperative Agreements, ranging from approximately $500,000 to $625,000, per award, designed to increase and improve employment opportunities for persons who are chronically homeless. In partnership with this DOL award, HUD announces the availability of $10 million for permanent housing grants from recaptured McKinney Act monies. These funds will be used to supplement each DOL Cooperative Agreement effort with a HUD grant award, ranging from approximately $2-3 million per award, to support permanent housing for individuals who are “chronically homeless” served through the DOL Cooperative Agreement. This inter-agency effort supports the President's goal of ending chronic homelessness in ten years by creating innovative approaches to providing housing and economic self-sufficiency for this population.

A person who is “chronically homeless” is an unaccompanied homeless individual with a disabling condition who has either been continuously homeless for a year or more, OR has had at least four (4) episodes of homelessness in the past three (3) years. In order to be considered chronically homeless, a person must have been sleeping in a place not meant for human habitation (e.g., living on the streets) and/or in an emergency homeless shelter. A disabling condition is defined as a diagnosable substance use disorder, serious mental illness, developmental disability, or chronic physical illness or disability including the co-occurrence of two or more of these conditions. A disabling condition limits an individual's ability to work or perform one or more activities of daily living.

Applicants for this program must, through a partnership evidenced with an executed Memorandum of Agreement (MOA), apply for both the DOL Cooperative Agreement and the HUD permanent housing grant award. Funding will be awarded, as this funding effort is meant to be a collaborative project combining a customized employment initiative with permanent housing services. The goal of these awards is to enable persons who are “chronically homeless” to achieve employment, permanent housing, and self-sufficiency. These agreements will begin or expand the delivery and implementation of “customized employment” strategies for people who are “chronically homeless” so that they may live, work, and fully participate in their communities. (See part VII, Section 1 for Glossary of Applicable Terms.)

The purpose of the DOL Cooperative Agreements and the HUD grants is to bring together the respective expertise and capabilities of both the local workforce development system (One-Stop Career Centers and their partners) and the local permanent housing service organizations, to develop and document the increased employment outcomes anticipated when these organizations combine their efforts to respond to the employment and housing needs of persons who are chronically homeless. The DOL Cooperative Agreements will be funded for a one-year period and may be renewed for a period up to four additional years, at varying funding levels (see Section IV) depending upon the availability of funds and the efficacy of the project activities. The HUD grants (McKinney-Vento Act funds) will provide funding for three (3) or five (5) years, determined by the application filed. The Supportive Housing Program (SHP) carries a term of three (3) years, and the Shelter Plus Care Program (S+C) is a five-year (5) term. The HUD permanent housing grants may only be used to provide new permanent housing resources for those persons who are chronically homeless and have expressed interest in pursuing employment outcomes.

The DOL Cooperative Agreement anticipates substantial involvement between ODEP and the awardees during the performance of the project to share expertise in the implementation of a customized employment model. Involvement will include collaboration or participation by ODEP in the management of the project throughout the period of the award. The ODEP will be involved in decisions involving strategic planning (including the plan to provide customized employment strategies), allocation of resources, release of public information materials, and analysis and implementation of evaluation findings.

The applications will be evaluated by DOL and HUD using the criteria set forth in Part VII, in conjunction with considerations by the Grant Officer delineated in Part IX of this Solicitation for Cooperative Agreement Application. DOL Cooperative Agreements will be matched by the HUD grants offered in this Solicitation, pursuant to the criteria set forth in Part VII as well as the requirements outlined in the HUD Application package.

ELIGIBILITY: Eligible applicants for the DOL Cooperative Agreements are Local Workforce Investment Boards (Local Boards) or, if appropriate, the WIA Cooperative Agreement recipient or fiscal agent for the local area on behalf of the local board under the Workforce Investment Act, that meet the following requirements: 1. Submit documentation that their locality includes at least 150 persons who are currently chronically homeless, as defined herein; and, 2. Demonstrate that they have partnership(s) with: (i) The applicant for the HUD grant, and (ii) other public and private entities, especially homeless serving organizations, consistent with the proposed activities of the Cooperative Agreement.

Eligible applicants for the HUD grant within this initiative are described in the HUD Eligible Applicants and Activities Chart. See Part VII, Section III, Part A.

DATES: Applications will be accepted commencing July 18, 2003. The closing date for receipt of the joint applications by DOL under this announcement is August 20, 2003. Applications must be received by 4:45 p.m. (ET) at the address below. No exceptions to the mailing and hand-delivery conditions set forth in this notice will be granted. Applications that do not meet the conditions set forth in this notice will be considered non-responsive.

ADDRESSES: Joint applications shall be mailed to: U.S. Department of Labor, Procurement Services Center, Attention: Cassandra Willis, Reference SGA 03-15, Room N-5416, 200 Constitution Avenue, NW, Washington, DC 20210. Telefascimile (FAX) applications will not be accepted. Applicants are advised that mail in the Washington area may be delayed due to mail decontamination procedures and may wish to take this information into consideration when preparing to meet the application deadline.

FOR FURTHER INFORMATION CONTACT: For information on the DOL Cooperative Agreement and related items contact Cassandra Willis, U.S. Department of Labor, Procurement Services Center, telephone (202) 693-4570 (this is not a toll-free number), prior to the closing deadline. For technical questions relating to the HUD grant contact: John Garrity, U.S. Department of Housing and Urban Development, telephone (202) 708-4300. Persons who are deaf or hard of hearing may contact either Cassandra Willis or John Garrity, via the Federal Relay Service, (800) 877-8339. Please note that registrations for the Solicitation Information Conference Call discussed below must be made by contacting ODEP as indicated in the following section, not Ms. Willis or Mr. Garrity. Applications, announcements, or forms will not be mailed. The Federal Register may be obtained from your nearest government office or library. This announcement and the award notifications will also be published on the Internet on the ODEP's online Home Page at: http://www.dol.gov/odep. Information will also be posted on the HUD Web site at http://www.hud.gov/offices/adm/grants/fundsavail.cfm and on www.fedgrants.gov.

Solicitation Information Conference Call: A Solicitation Information Conference Call will be held at 2:00 p.m. (ET), Monday, July 28, 2003. The purpose of this conference call is to provide interested parties an overview of this Cooperative Agreement program and an opportunity to ask questions concerning this solicitation. A transcript of the conference will be made available on the ODEP Web site, www.dol.gov/odep shortly following the conference. Individuals who wish to participate in this conference call must register by contacting ODEP at (202) 693-7880, no later than 4:45 p.m. (ET) on Friday, July 25, 2003. Please ask to register for the Ending Chronic Homelessness SGA Conference Call. Registrations should be made as soon as possible. At the time of registration, call-in information will be provided.

SUPPLEMENTARY INFORMATION:

Part I. Delivery of Applications

Late Applications. Any application received after the exact date and time specified for receipt at the office designated in this notice will be considered non-responsive, unless it is received before awards are made and it: (a) Is determined that its late receipt was caused by DOL error after timely delivery to the Department of Labor; (b) was sent by U.S. Postal Service registered or certified mail not later than the fifth calendar day before the date specified for receipt of applications (e.g., an application submitted in response to a solicitation requiring receipt of applications by the 20th of the month must have been post marked by the 15th of that month); or (c) was sent by the U.S. Postal Service Express Mail Next Day Service to addressee not later than 5 p.m. at the place of mailing two working days prior to the date specified for receipt of applications. The term “working days” excludes weekends and Federal holidays. “Post marked” means a printed, stamped, or otherwise placed impression (exclusive of a postage meter machine impression) that is readily identifiable, without further action, as having been supplied or affixed on the date of mailing by an employee of the U.S. Postal Service.

Withdrawal of Applications. Applications may be withdrawn by written notice or telegram (including mailgram) received at any time before an award is made. Applications may be withdrawn in person by the applicant or by an authorized representative thereof, if the representative's identity is made known and the representative signs a receipt of the proposal.

Hand-Delivered Proposals. It is preferred that applications be mailed at least five days prior to the closing date. To be considered for funding, hand-delivered applications must be received by 4:45 p.m. (ET) on August 18, 2003, at the specified address. Failure to adhere to the above instructions will be basis for a determination of non-responsiveness. Overnight express mail from carriers other than the U.S. Postal Service will be considered hand-delivered applications and must be received by the above specified date and time.

Part II. Authorities

DOL Cooperative Agreements: Consolidated Appropriations Resolution, 2003, Pub. L. 108-7, 117 Stat. 11 (2003); Consolidated Appropriations Act, 2001, Pub. L. 106-554, 114 Stat. 2763 (2000); 29 U.S.C. 557b.

HUD Grants: McKinney-Vento Homeless Assistance Act, 42 U.S.C. 1130.

The Supportive Housing Program is authorized by Title IV, Subtitle C, of the Stewart B. McKinney-Vento Homeless Assistance Act (McKinney-Vento Act), 42 U.S.C. 11381. Funds made available under this section of the SGA (Solicitation for Grant Applications) for the Supportive Housing Program are subject to the program regulations at 24 CFR part 583. The funds are also subject to the requirements of this SGA.

The Shelter Plus Care program is authorized by Title IV, Subtitle F, of the McKinney-Vento Act, 42 U.S.C. 11403. Funds made available under this section of the SGA for the Shelter Plus Care program are subject to the program regulations at 24 CFR part 582. The funds are also subject to the requirements of this SGA.

Part III. Background

The Olmstead Decision

In Olmstead v. L.C. ex rel. Zimring, 527 U.S. 58 (1999) (the “Olmstead decision”), the Supreme Court construed Title II of the Americans with Disabilities Act (ADA) to require states to place qualified individuals with mental disabilities in community settings, rather than in institutions whenever treatment professionals determine that such placement is appropriate, the affected persons do not oppose such placement, and the state can reasonably accommodate the placement, taking into account the resources available to the state and the needs of others with disabilities. The Department of Justice regulations implementing Title II of the ADA require public entities to administer their services, programs, and activities in the most integrated setting appropriate to the needs of qualified individuals with disabilities. See 28 CFR 35.130(d).

In Olmstead, the Supreme Court stated that institutional placements of people with disabilities who can live in, and benefit from, community settings perpetuates the unwarranted assumptions that persons so isolated are incapable or unworthy of participating in community life. The Supreme Court stated that “recognition that unjustified institutional isolation of persons with disabilities is a form of discrimination reflects two evident judgments. First, institutional placement of persons who can handle, and benefit from, community settings perpetuates unwarranted assumptions that persons so isolated are incapable or unworthy of participating in community life. Second, confinement in an institution severely diminishes the everyday life activities of individuals, including family relations, social contacts, work options, economic independence, educational advancement, and cultural enrichment.” Olmstead, 527 U.S. at 600-01 (emphasis added)(citations omitted). This decision affects not only all persons in institutions and segregated settings, but also people with disabilities who are at-risk of institutionalization, including people with disabilities on waiting lists to receive community-based services and supports.

On June 18, 2001, President George W. Bush issued Executive Order 13217-Community-Based Alternatives for Individuals with Disabilities (the Olmstead Executive Order), in which he extended application of the Supreme Court's Olmstead decision to all Americans with disabilities, and called upon selected federal agencies, including the U.S. Department of Labor, to help support governors in their implementation of the Olmstead decision.

In March 2002, the U.S. Secretary of Health and Human Services, Tommy G. Thompson, submitted a report to President Bush, titled Delivering on the Promise, on behalf of the Departments of Labor (DOL), Justice (DOJ), Education (ED), Health and Human Services (HHS), Housing and Urban Development (HUD), Transportation (DOT), Veterans Affairs (VA), the Social Security Administration (SSA), and the Office of Personnel Management (OPM). This report detailed actions being planned by the aforementioned agencies to eliminate barriers and promote community integration. See http://www.hhs.gov/newfreedom/final. In this report, the DOL and other federal agencies noted that successful planning and implementation efforts regarding the Olmstead decision must include competitive employment and employment-related supports.

ODEP Actions to Date

For the past two years (federal Fiscal Years 2001 and 2002) ODEP has funded two types of employment demonstration grants (“Customized Employment” and “WorkFORCE Action”) for persons with significant disabilities. The distinguishing characteristic of these grants has been the application of a philosophy of “customizing employment” services, with enhanced coordination of these customized services with multiple community and state partners, especially One-Stop Career Centers. Documenting and supporting these demonstration grants with technical assistance on “customized employment” strategies has been the responsibility of ODEP's National Center for Workforce Development for Adults with Disabilities (with access online at www.onestops.info and by telephone through the toll-free number 1-888-886-9898).

As a result of these and other customized employment efforts, improved employment outcomes for persons with disabilities are being realized. These promising results offer the possibility of increased employment outcomes for all organizations serving the employment needs of persons who are chronically homeless. In view of this potential, DOL is soliciting Cooperative Agreement applications from eligible organizations to demonstrate the expanded potential of “customized employment” strategies for persons who are chronically homeless.

It is worth noting that the term “customized employment” as a philosophy espoused in this SGA, along with its associated strategies (see definition for “customized employment” in Section VII), is not without precedent for groups serving the employment needs of persons who are chronically homeless. The principle of “individualizing” or “customizing” employment services, based upon the person's individual needs, interest, and abilities is central to individual development planning approaches, which have long been recognized as necessary and advantageous when responding to the employment needs of persons who are chronically homeless. An added advantage of the “customized employment” approach, as defined in this SGA, is to increase the number and variety of employment strategies and options made available through the workforce development system in cooperation with organizations serving homeless people. In addition, these service strategies are also customized for the employer. This SGA attempts to bring the workforce development system and organizations serving persons who are chronically homeless into a closer alignment with effective disability-related employment methods and expertise.

Many strategies exist for creating and expanding competitive employment opportunities for persons who are chronically homeless. Many effective strategies have emerged through decades of research and demonstration projects, and through other public and private activities promoting increased choice and self-determination for people with disabilities. These include multiple “customized” employment approaches such as supported employment and supported entrepreneurship; individualized job development; job carving and restructuring; use of personal agents (including individuals with disabilities and family members); development of micro-boards, micro-enterprises, cooperatives, and small businesses; and the use of personal budgets and other forms of individualized funding that provide choice and control to the person and promote self-determination.

ETA has supported demonstration efforts under the Job Training for the Homeless Demonstration Program, authorized under Section 731 of the Stewart B. McKinney Homeless Assistance Act of 1987. The effort focused on a wide spectrum of housing options and supportive services that are needed by homeless individuals to be successful in completing training and securing and retaining employment. Evaluations of these efforts revealed successful strategies on how those services can be provided directly by employment and training agencies or arranged through linkages with public or private service providers. Most importantly, that effort revealed that neither housing nor employment services alone would help the homeless become self-sufficient; the two in combination are essential for their full reintegration back into the community.

ETA also administers Work Incentive Grants designed to provide seed monies to support the development of the One-Stop Career Center infrastructure with an objective of achieving model, seamless and comprehensive services for people with disabilities. These grants incorporate multi-program and cross-agency coordination at the state and local level and provide for increasing staff capacity to ensure access to multiple services and supports needed for successful entry or reentry into the workforce.

VETS has supported various homeless veterans grant programs and initiatives. The Homeless Veterans' Reintegration Program (HVRP) was the first nationwide Federal program that focused on placing homeless veterans into jobs. Historically, VETS has held annual grant competitions for urban and non-urban grants. These grants have provided valuable information on approaches that work in the different environments. The HVRP program is designed to be flexible in addressing the universal as well as local or regional problems barring homeless veterans from the workforce. VETS, in a joint effort with ODEP and ETA, will continue to seek applicants that have established links with federal, state and local resources for assisting homeless veterans, and applicants that provide personalized or customized services in their approach for employment and retention of persons who are homeless or at-risk of homelessness.

HUD has homeless assistance programs designed to provide permanent housing, including the Supportive Housing Program (SHP) and the Shelter Plus Care Program. These programs can be used to help persons who are chronically homeless transition from homelessness to living as independently as possible.

This SGA provides an opportunity for both HUD and DOL to combine their respective resources and expertise in a combined approach to provide employment and housing services to people who are chronically homeless so that they can live independently as self-sufficient members of their community.

This Ending Chronic Homelessness through Employment and Housing SGA supports the President's New Freedom Initiative. The New Freedom Initiative is designed to increase the number of people with disabilities who enter, re-enter, and/or remain in the workforce. By emphasizing the need to increase the capacity of federally-supported employment and training programs to serve persons who are chronically homeless, this SGA will further the New Freedom Initiative's goals of increased integration of Americans with disabilities into the workforce.

Recently, the Federal Government's Interagency Council on Homelessness (http://www.ich.gov) has begun an expanded effort to end chronic homelessness. This SGA supports this initiative by increasing the involvement of the workforce development system in partnership with key disability and homeless serving organizations to meet the customized employment needs of persons who are chronically homeless.

In addition, the DOL Cooperative Agreements will support implementation of coordinated workforce development envisioned under the WIA. The WIA established comprehensive reform of existing federal job training programs, consolidating multiple programs into a unified system and bringing multiple federal programs together as required partners in the One-Stop delivery system established under the WIA. The One-Stop Centers, which comprise the heart of this system, are in a position to expand employment opportunities for persons who are disabled and chronically homeless, by helping to ensure that the workforce system is accessible both physically and programmatically. To accomplish this, however, additional state and local organizations must be involved, including community-based providers of customized employment services. Additional partners necessary to the success of this endeavor for persons who are chronically homeless may include, but are not limited to, the organizations listed in Part VII, Section 2.

In response to these considerations, and in view of the potential resources described above, both DOL and HUD offer these Ending Chronic Homelessness through Employment and Housing—WorkFORCE (Working for Freedom, Opportunity and Real Choice through Community Employment) Action Cooperative Agreements to develop and/or expand the capacity of the workforce development system to provide individually determined “customized employment” strategies, in partnership with housing organizations serving people who are chronically homeless.

The ODEP and its partners strongly recognize the need for technical assistance to provide support, training, dissemination, information on effective practices, etc. to the grantees under the Ending Chronic Homelessness through Employment and Housing initiative. This demonstration Cooperative Agreement and grant initiative needs technical assistance and cross-expertise to bring together the workforce development system with the homeless serving community to provide employment and permanent housing for persons who are chronically homeless. Accordingly, a National technical assistance effort on Ending Chronic Homelessness through Employment and Housing is planned, to: 1. Provide awardees with ongoing support and technical assistance; 2. Compile and disseminate to other interested parties what is learned through these Cooperative Agreements to other interested parties; and, 3. Inform the policy development process of the Administration regarding the advantages of combining the provisioning of employment and permanent housing services for persons who are chronically homeless.

Part IV. Funding Availability and Period of Performance

The DOL anticipates awarding up to 4 Cooperative Agreements, ranging from approximately $500,000 to $625,000 per year, totaling $2.5 million, to develop demonstration programs to increase and improve employment opportunities for people who are chronically homeless. In conjunction with the DOL Cooperative Agreements, HUD grants, totaling $10 million, will be issued to the top-scoring applications (as described in Part VII and the HUD grant application section) to support new permanent housing units for chronically homeless persons. The goal of these DOL Cooperative Agreements is to enable people who are chronically homeless to achieve employment, permanent housing, and self-sufficiency. These demonstration programs will begin or expand the delivery and implementation of “customized employment” strategies for people who are chronically homeless so that they may live, work, and fully participate in their communities.

Each DOL Cooperative Agreement award will be for one year, with four additional option years possible, depending upon the availability of funds and the efficacy of Cooperative Agreement activities, established by independent reviews conducted by the ODEP or its designees. It is envisioned that if DOL funding continues for the full five years, its funding for years four and five will be at successively lower rates, with funding during year four at 80 percent of the third year funds, and funding during year five at 60 percent of the third year funds. This decreased funding strategy is designed to encourage program sustainability in the community, beyond the federally funded Cooperative Agreement period. Awardees are expected to use this Cooperative Agreement to leverage and develop other public and private resources to ensure long-term sustainability. This funding strategy applies only to DOL funds. The DOL funds (the customized employment funds) may be used in a flexible manner so long as the requirements delineated in this Cooperative Agreement are met.

Approximately four (4) grant awards will be made by HUD for terms of three (3) or five (5) years, depending on the program being used (see Program descriptions below). At the end of these terms, eligible projects seeking renewal can apply through their local Continuum of Care to replace the loss of non-renewable funding from HUD through this process and, if selected, can be funded for additional years.

The HUD grants (the housing funds) must only be used to secure new permanent housing units for those persons who are chronically homeless served through the DOL Cooperative Agreement and who indicate a willingness to accept the employment supports designed under the customized employment portion of this award. While their participation in the customized employment portion of this award is not a mandatory outcome for all, it should be an established intention for all who receive permanent housing supports under these funds. Proposals will be judged on plans to establish this interest and participation, including expected employment results.

Each permanent supportive housing project must be classified under one of the program components described below. Eligible activities under this SGA for the HUD permanent housing grants are limited to rental assistance, acquisition, minor rehabilitation (e.g. reconfiguring a doorway for handicap accessibility), leasing, operating costs, and administrative costs. Minor rehabilitation costs may not exceed $3,000 per unit. The employment-related resources being made available by DOL and resources from other sources can be used to provide supportive services. Applicants may also request up to 5% of each Supportive Housing Program project award for administrative costs, such as accounting for the use of the grant funds, preparing HUD reports, obtaining audits, and other costs associated with administering the grant. New construction and major rehabilitation are not eligible for funding. (See the HUD Eligible Applicants Chart for further details on eligible activities.)

HUD applicants must match housing funds provided for acquisition and minor rehabilitation with an equal amount of funds from other sources. For operating costs, housing funds can pay for no more than 75% of the total operating budget and applicants must provide the remaining 25% of the operating costs. For S+C, applicants must match rental assistance provided through this initiative on a dollar for dollar basis with supportive services.

Applicants for HUD assistance can choose to request funds for either the Supportive Housing Program or the Shelter Plus Care Program. The Supportive Housing Program has two eligible components from which to choose for this competition: Permanent Housing for Persons with Disabilities and Safe Havens. These two Supportive Housing Program components, Permanent Housing for Persons with Disabilities and Safe Havens, as well as the Shelter Plus Care Program are described below:

Supportive Housing Program

1. Permanent Housing for Persons with Disabilities. Permanent Housing projects provide long-term housing and supportive services (provided with other non-SHP funds) that are designed to enable chronically homeless persons with disabilities to live as independently as possible. Permanent housing can be provided at one site or in scattered sites. Further, Permanent Housing may be tenant-based, meaning that the tenant can choose the housing. This approach focuses on identification and engagement through assertive outreach to individuals, immediate placement in permanent housing, and availability of appropriate supportive services.

2. Safe Havens (that have the characteristics of a Permanent Housing Project, i.e., have a lease agreement with the client). Safe Havens are projects targeted to hard-to-reach homeless persons who have severe mental illness and are on the streets. The goal of a Safe Haven is to serve as a small, highly supportive environment where an individual can feel at ease, out of danger, and subject to limited service demands. Tenants can move directly into housing with few explicit services required. It is hoped that after a period of stabilization in a Safe Haven, residents will be more willing to participate in services and referrals and will eventually be ready to move to more traditional forms of housing. Safe Havens may serve as an entry point to the service system and provide access to basic services such as good food, clothing, bathing facilities, telephones, storage space, and a mailing address. The specific criteria that must be exhibited by a Safe Haven are:

• A lease agreement with the client,

• No limit on length of stay,

• Provision of 24-hour residence,

• Provision of private or semiprivate accommodations,

• Overnight occupancy limited to 25 persons.

Shelter Plus Care Program

The Shelter Plus Care Program (either tenant-, sponsor-, or project-based without rehabilitation) gives applicants flexibility in devising appropriate housing and supportive services for homeless persons with disabilities through rental assistance. Assisted units may be of any type, from group homes to apartments. Participants in S+C units receive supportive services and rental assistance provided through the S+C program must be matched in the aggregate on a dollar for dollar basis by the recipient with supportive services.

Part V. Eligible Applicants and Required Partnerships

DOL Eligible Applicants: For the DOL Cooperative Agreement awards, eligible applicants are Local Workforce Investment Boards (Local Boards), or, if appropriate, the WIA grant recipient or fiscal agent for the local area on behalf of the Local Board under the Workforce Investment Act. Eligible applicants must be able to document that their locality has at least 150 persons who are chronically homeless. In order to be determined eligible, the Local Board must enter into partnerships with organizations serving people who are chronically homeless, consistent with the proposed activities of this Cooperative Agreement. To be determined eligible, applicants may not utilize certificates authorized under Section 14(c) of the Fair Labor Standards Act in their implementation of project activities and must utilize only individually determined customized employment strategies in securing employment for the target population.

HUD Eligible Applicants: Eligible applicants for the HUD grant within this initiative are described in the HUD Eligible Applicants and Activities Chart. See Part VII, Section III, Part A. Applicants must be a part of their local Continuum of Care and must certify to this relationship. Eligible applicants must be able to document that their locality has at least 150 persons who are chronically homeless. In order to be determined eligible, the HUD eligible applicant must enter into a partnership with their Local Workforce Investment Board, as described above, who is making an application for the DOL Cooperative Agreement being offered within this Solicitation.

DOL and HUD Required Partnerships: The purpose of the Ending Chronically Homelessness through Employment and Housing Cooperative Agreements is to demonstrate the employment potential of persons who are chronically homeless through techniques designed to accomplish community employment in non-stereotypical integrated settings, utilizing “customized employment” strategies. These efforts must include the involvement of many key partners, especially those providing housing services to persons who are chronically homeless as well as those providing or capable of providing customized employment services to persons with disabilities. Applicants must demonstrate that subcontractors will provide the necessary supportive services to address the needs of the chronically homeless including coordinating and integrating the project with other mainstream health and social services for which homeless populations may be eligible.

In order to ensure a coordination of effort between these two awards, proposals shall demonstrate that a strong partnership commitment has been made between the two respective eligible applicants (for the DOL Cooperative Agreement award and for the HUD permanent housing grant). While these two awards (DOL Cooperative Agreement and HUD grant), are from separate funding sources, their potential can only be realized through this coordination of effort. Failure to clearly document, through a Memorandum of Agreement, this coordination of effort will yield a proposal “non-responsive” and disqualified from any further consideration.

In addition, the DOL Cooperative Agreement applicant must submit a letter signed by their state's governor, or his or her designee, for overall implementation of the Olmstead decision, that the proposed Cooperative Agreement activities will be regarded as a demonstration program playing a role in the state's employment implementation effort(s) under the Olmstead decision. Moreover, this letter should describe how the lessons learned under this Cooperative Agreement will be utilized to benefit other communities throughout the state, and thereby provide expanded customized community employment options for other homeless people with disabilities who are covered under the Olmstead decision and Executive Order.

Part VI. Format Requirements for Cooperative Agreement and Grant Application

General Requirements: All applications will be submitted to DOL. There are separate application requirements for the DOL Cooperative Agreement and the HUD grant, however, the Executive Summary—Project Synopsis and Part VII, Section 2 (Collaboration Requirements) will provide an opportunity to explain the applicants' collaborative program design. Applicants must submit one (1) paper copy with an original signature, and two (2) additional paper copies of the signed proposal. To aid with the review of applications, DOL also encourages applicants to submit an electronic copy of their proposal on disc or CD using Microsoft Word. Applicants who do not provide an electronic copy will not be penalized. The Application must be double-spaced with standard one-inch margins (top, bottom, and sides) on 8 ½ × 11 papers, and be presented on single-sided, and numbered pages. A font size of at least twelve (12) pitch is required throughout. Applications that fail to meet these requirements will be considered non-responsive.

DOL Cooperative Agreement Requirements:

The three required sections of the application are:

Section I—Project Financial Plan

Section II—Executive Summary—Project Synopsis

Section III—Project Narrative (including Attachments, not to exceed fifty (50) pages)

Mandatory requirements for each section are provided as follows in this application package. Applications that fail to meet the stated mandatory requirements of each section will be considered non-responsive.

Mandatory Application Requirements

• Section I. Project Financial Plan (Budget)—[The Project Financial Plan will not count against the application page limits.] Section I of the application must include the following three required parts:

(1) Completed“SF 424—Application for Federal Assistance.”

(See Appendix A of this SGA for required form)

(2) Completed SF 424 A—Budget Information Form by line item for all costs required to implement the project design effectively.

(See Appendix A of this SGA for required forms)

(3) DOL Budget Narrative and Justification that provides sufficient information to support the reasonableness of the costs included in the budget in relation to the service strategy and planned outcomes, including continuous improvement activities.

The DOL Cooperative Agreement application must include one SF-424 (Note: the HUD Grant Application must include its own HUD-424) with the original signatures of the legal entity applying for Cooperative Agreement funding and two additional copies. Applicants shall indicate on the SF-424 the organization's IRS Status, if applicable. Under the Lobbying Disclosure Act of 1995, Section 18 (29 U.S.C. 1611), an organization described in Section 501(c)(4) of the Internal Revenue Code of 1986 that engages in lobbying activities will not be eligible for the receipt of federal funds constituting an award, Cooperative Agreement, or loan. See 2 U.S.C. 1611; 26 U.S.C. 501(c)(4). For item 10 of the SF-424, the Catalog of Federal Domestic Assistance (CFDA) number for the program is 17.720.

The DOL Budget Narrative and Justification must describe all costs associated with implementing the project that are to be covered with Cooperative Agreement funds. Awardees must support the travel and associated costs of sending at least one representative to the annual ODEP Policy Conference for its grantees, to be held in Washington, DC at a time and place to be determined. Awardees must comply with the “Uniform Administrative Requirements for Grants and Cooperative Agreements to State and Local Governments,” (also known as the “Common Rule or OMB Circular A-102”) codified at 29 CFR part 97, or “Grants and Agreements with Institutions of Higher Education, Hospitals, and Other Non-Profit Organizations” (also known as the “Common Rule” or OMB Circular A-110), codified at 29 CFR part 95 and must comply with the applicable OMB cost principles circulars, as identified in 29 CFR 95.27 and 29 CFR 97.22(b).

In addition, the DOL budget must include on a separate page a detailed cost analysis of each line item. Justification for administrative costs must be provided. Approval of a budget by DOL is not the same as the approval of actual costs. The individual signing the SF 424 on behalf of the applicant must represent and be able to legally bind the responsible financial and administrative entity for a Cooperative Agreement should that application result in an award. The applicant must also include the Assurances and Certifications Signature Page (Appendix A).

• Section II. Executive Summary—Project Synopsis [The Executive Summary is limited to no more than two single-spaced, single-sided pages on 8½ x 11 papers with standard margins throughout]. Each application shall include a project synopsis that identifies the following:

(1) The applicant;

(2) The amount of funds requested separately for the DOL portion (employment program) and the HUD portion (permanent housing program);

(3) The planned period of performance for both employment and housing portions;

(4) The list of partners, as appropriate;

(5) An overview of how the applicant will identify the population to be served (including the estimated number and types of persons who are chronically homeless), the conditions such individuals are currently experiencing, and methods that will be used to promote community customized employment and permanent housing, including “customized employment “ strategies listed in this SGA; and

(6) An overview of the plan for sustainability once federal funding ceases.

• Section III. Project Narrative—The DOL Cooperative Agreement Project Narrative plus attachments are limited to no more than fifty (50), 8½ × 11 pages, double-spaced with standard one-inch margins (top, bottom, and sides), and must be presented on single-sided, numbered pages. [Note: The Financial Plan, the Executive Summary, and the Appendices, including required letters of cooperation, Memorandum of Understanding, etc., are not included in the fifty page limit]. The requirements for the project narrative are described below under Part VII—Statement of Work.

The “Collaboration” application proposal (partnering DOL and HUD eligible applications), as defined in Part VII, Section 2, should be clearly labeled as such and included in the joint application package (combined DOL Cooperative Agreement and HUD grant applications) submitted to Cassandra Willis, at the location and due date indicated in this Solicitation. The “Collaboration” proposal is subject to the conditions outlined for the DOL Cooperative Agreement proposal (formatting, numbers of copies, etc.), and may not exceed fifteen (15) pages. The required Memorandum of Agreement and possible letters of support do not count against the fifteen-page limitation for this section. In addition, no separate budget is necessary for this section. Both the DOL Cooperative Agreement and HUD grant budgets may be sources for any needed budget allocations for this part, if consistent with their respective terms and conditions.

All text in the application narrative, including titles, headings, footnotes, quotations, and captions, as well as all text in charts, tables, figures, and graphs must be double-spaced (no more than three lines per vertical inch); and, if using a proportional computer font, must be in at least a 12-point font, and must have an average character density no greater than 18 characters per inch (if using a non-proportional font or a typewriter, must not be more than 12 characters per inch). Applications that fail to meet these requirements will be considered non-responsive.

The HUD grant application requirements, including all necessary forms and directions, are outlined in detail, in Part VII, Section 4, “HUD Grant Requirements.”

Part VII. Government Requirements/Terms/Statement of Work [Project Narrative]

Glossary of Applicable Terms

For purposes of this solicitation, the terms applicable to both the DOL Cooperative Agreements and the HUD permanent housing grant awards are as follows:

• Customized Employment: individualizing the employment relationship between employees and employers in ways that meet the needs of both. It is based on an individualized determination of strengths, needs, and interests of the person with a disability and simultaneously employing strategies designed to meet the specific needs of the employer. It may include approaches such as supported employment; supported entrepreneurship; individualized job development; job carving and restructuring; use of personal agents (including individuals with disabilities and family members); development of micro-boards, micro-enterprises, cooperatives and small businesses; and use of personal budgets and other forms of individualized funding that provide choice and control to the person and promote self-determination. These and other job development or restructuring strategies result in job responsibilities being customized and individually negotiated to fit the needs of individuals with disabilities. Customized employment assumes the provision of reasonable accommodations and supports necessary for the individual to perform the functions of a job that is individually negotiated and developed.

• Eligible Target Population: a person who is “chronically homeless” is an unaccompanied homeless individual with a disabling condition who has either been continuously homeless for a year or more, OR has had at least four (4) episodes of homelessness in the past three (3) years. In order to be considered chronically homeless, a person must have been sleeping in a place not meant for human habitation (e.g., living on the streets) and/or in an emergency homeless shelter. A disabling condition is defined as a diagnosable substance use disorder, serious mental illness, developmental disability, or chronic physical illness or disability including the co-occurrence of two or more of these conditions. A disabling condition limits an individual's ability to work or perform one or more activities of daily living. (In order to receive housing assistance through the HUD grants, program participants must meet the McKinney-Vento Act definition of disability for SHP and persons with disabilities for S+C.)

• Homeless Persons: include only persons sleeping in a place not meant for human habitation (e.g., on the streets) or in an emergency homeless shelter.

Rating Criteria

Section I. Collaboration Requirements (30 Points)

The purpose of the Collaborative Effort criteria is to determine the level of cooperation between the employment services providers and the permanent housing providers applying for these funds. The partners in this Cooperative Agreement should explain how their services will be seamlessly coordinated for the population to be served. The application must describe the outreach plan in place to bring the target population into the project and, in turn, how the applicants will ensure that they receive housing, employment services, and other necessary support (e.g., transportation, mental health, substance abuse, health, etc.) services. Applicants should include the following in their narrative:

A. Statement of Need/Significance of the Project (10 Points)

The purpose of the Statement of Need criteria is to establish the overall status and issues of persons who are chronically homeless in the area to be served; the need for the type of project proposed by the applicant in the area to be served; to identify strengths and deficiencies in community services that will be addressed by the applicant's proposal; to identify the overall scope of the proposal's objectives and design; to present the applicant's need for the federal resources; to demonstrate significance of the proposed project; and to demonstrate the current and proposed partnerships and collaborative efforts to develop or identify effective new strategies, practices, and/or innovations. The narrative in this section should:

(a) Describe the characteristics of the target population to be serviced by this initiative.

(b) Give a preliminary estimate of the number of persons experiencing chronic homelessness in the target community and describe the method by which this estimate was derived.

(c) Describe the employment, permanent housing, service, and treatment needs of the target population.

B. Collaborative Effort (10 Points)

The purpose of the Collaborative Effort criteria is to determine the level of cooperation between the employment services providers and the permanent housing providers applying for these funds. The partners in this Cooperative Agreement should explain how their services will be seamlessly coordinated for the population to be served. The narrative in this section should:

(a) List the entities participating in this initiative that will provide the employment services and permanent housing.

(b) Describe how the employment services will be linked to permanent housing so that the target population will be sustained in that housing.

(c) Identify how the DOL and HUD funds are proportionate to each other and how the proposed project is cost-effective.

(d) Describe the other resources that will be leveraged during this initiative, either cash or in-kind contributions, including the value of each contribution. These leveraging funds should address the match requirements for the HUD funds and any additional supportive services needed by the population to be served.

(e) Describe the outreach plan in place to bring the target population into the project.

Sample agencies that could be involved as partners in the design and implementation include:

• Disabled Veterans' Outreach Program Specialist and Local Veterans' Employment Representatives located at local employment service offices;

• Programs serving persons who are chronically homeless, including the Continuum of Care agency or service provider in the designated jurisdiction;

• Employment and training agencies;

• Department of Veterans Affairs Homeless Programs;

• Chambers of Commerce;

• State agencies for substance abuse, vocational rehabilitation, education, Medicaid, mental retardation, mental health, public health, and Temporary Assistance for Needy Families (TANF);

• Faith-based and community organizations;

• State Developmental Disability Councils and University Centers for Excellence in Developmental Disabilities;

• Small Business Development Centers;

• Independent Living programs;

• Post-secondary institutions, benefits counseling, and assistance programs;

• Lending and financial institutions, whose expertise, services, and/or funds could contribute to employment services and supports needed to secure competitive, customized community employment outcomes for the target group;

• Community rehabilitation providers; family members, consumers, employers, and any other key agencies or constituencies needed to offer a comprehensive service delivery model.

C. Memorandum of Agreement (10 Points)

Each application package must contain a Memorandum of Agreement, signed by the DOL Cooperative Agreement and HUD grant applicants participating in this initiative. The Memorandum of Agreement must include the following:

(a) Parties—Identify by position and title lead person binding each organization to this MOA.

(b) Term of Agreement—Indicate time frame for this agreement and the agreed to mechanisms and assurances for continuing cooperation if option years are funded under the terms of the DOL Cooperative Agreement.

(c) Purpose—Describe the agreed upon intent of this cooperative effort.

(d) Guiding Principles—Describe the common values and shared goals that bring together the parties in this MOA.

(e) Responsibilities—Clearly define each party's duties in a way which demonstrates how these two efforts will complement and support each other.

(f) Implementation and Evaluation—Outline the key tasks necessary for accomplishing the activities outlined in this MOA, including agreements to cooperate with mutual and combined evaluation efforts.

While the primary partners of this Agreement must include the eligible applicants submitting the linked proposals for both the DOL customized employment Cooperative Agreement and the HUD permanent housing grant award, other key partners may be identified and included.

The MOA will be evaluated on how clearly it reflects a binding agreement to cooperate in attaining the joint goals of the DOL Cooperative Agreement and the HUD grant and on the efficacy of the mechanisms described to accomplish that cooperative effort.

Letters of Commitment. Applicants may include letters of support if they provide specific commitments. Letters of commitment for related support services may also be included. Such letters can increase an applicant's score for the DOL Section by showing that the commitments in the text of the proposal are substantiated. Form letters will not be considered. See also Part V for additional requirements relating to cooperation.

Section II. DOL Cooperative Agreement Requirements (35 Points)

The purpose of the Ending Chronic Homelessness through Employment and Housing Cooperative Agreements is to demonstrate the employment potential of persons who are chronically homeless, utilizing “customized employment” strategies to accomplish employment in non-stereotypical integrated settings. These Cooperative Agreement funds may not be used to support sub-minimum wage employment. These efforts must include the involvement of many key partners, including those organizations serving people who are chronically homeless.

ODEP will be directly involved in the awardee's strategic planning (including the plan to provide customized employment strategies), allocation of resources, release of public information materials, and analysis and implementation of evaluation findings.

Within these various activities, ODEP will provide the following: 1. Expertise related to the implementation of customized employment strategies; 2. Information on disability-specific practices and resources, as well as information and analysis to inform the Administration's policy development; and 3. Technical assistance on the interrelationship among disability employment efforts, the workforce development system, and organizations serving the homeless community (Continuum of Care).

In addition, this program is subject to the provisions of the Jobs for Veterans Act, Pub. L. 107-288, which provides priority of service to veterans and certain of their spouses in all Department of Labor-funded job training programs. Please note that, to obtain priority of service, a veteran must meet that program's eligibility requirements. Comprehensive policy guidance on implementation of the Jobs for Veterans Act is being developed and will be issued in the near future.

The Project Narrative, or Section III of the Cooperative Agreement application, should provide complete information on how the applicant will address the following DOL priorities for Fiscal Year 2003:

(1) Increase the availability of skill training, employment opportunities, and career advancement for persons who are chronically homeless; and

(2) Develop comprehensive One-Stop Centers, which are welcoming and valued providers of choice by customers who are chronically homeless seeking workforce assistance by ensuring availability of staff trained on homeless issues.

In addition, proposals will be rated based upon the quality of the applicant's response in addressing the four criteria (A-D) described below in terms of a comprehensive strategic approach that addresses the various considerations noted in this SGA. The criteria below MUST be addressed and the applicant's capabilities or potential with regard to each item described.

The ODEP, however, does not expect the applicant to fully incorporate, unless otherwise noted, every individual sub-part listed in each lettered (A-D) criteria below as part of their strategy and proposal design. The ODEP recognizes that the needs and requirements of each state and community may be different, and therefore, some of the options identified may be more relevant than others in a particular state. The narrative in this section should include narrative descriptions for the following six criteria:

A. Project Design and Project Management (15 Points)

Under this section, the applicant must describe the project design and its management plan. The proposed project design must address the proposed design for the Ending Chronic Homelessness through Employment and Housing Cooperative Agreement including its response to the requirements outlined in Part V (Eligible Applicants and Required Partnerships) of this Solicitation.

In addition, the project design must address the movement of individuals into integrated community employment opportunities; coordination with the state's lead agency implementing the Olmstead decision as well as their state's overall Olmstead plan, describing how the project will contribute to the development of their state's plan and implementation strategy related to employment; and integration of customized employment strategies with the state's employment programs and services, including existing services available through the One-Stop Centers, the state and local Workforce Investment Boards, and their partners. Additional considerations under this section are to:

(a) Coordinate efforts with existing homeless services, veterans organizations and employment programs for people with disabilities;

(b) Develop customized employment opportunities in a variety of occupations and industries based on the strengths, needs, and desires of persons who are chronically homeless, including self-employment and entrepreneurship where appropriate. Services and supports must be organized in ways that provide informed choice and promote self-determination;

(c) Establish employer involvement, track and respond to customer service and satisfaction for both persons who are chronically homeless and employers, and provide services, including follow-up services, to ensure job retention and career development;

(d) Collaborate with community-based and faith-based and community organizations in their state in order to expand opportunities for customized employment for the target population. This includes facilitating the availability and use of customized employment strategies by such organizations as well as facilitating the organizations' registration as eligible training providers with their local One-Stop Career Centers;

(e) Educate relevant stakeholders and systems personnel about changes needed to increase customized community employment outcomes for persons who are chronically homeless;

(f) Consider the usefulness of increasing the availability of personal agents and job development personnel offering customized services through customer-controlled approaches that result in customized employment. One possible area of focus could include demonstrating the effectiveness of paying family members and/or other individuals with disabilities to serve as personal agents when selected by the individual with a disability to assist in negotiating and implementing employment plans and services;

(g) Incorporate use of funds leveraged across several systems available to people with disabilities through personal budgets and other forms of self-directed accounts.

Applicants must provide a detailed management plan which identifies the critical activities, time frames, and responsibilities for effectively implementing the project, including the evaluation process for assuring successful implementation of Cooperative Agreement objectives. The management plan will be evaluated to determine whether the applicant has developed an adequate management plan to effectively carry out the objectives and scope of the proposed project on time and within budget, to describe the predicted outcomes resulting from activities funded under this SGA, and to identify the “methods of evaluation” that will be used by the applicant to determine success.

B. Staff Capacity (5 Points)

The applicant must describe the proposed staffing of the DOL Cooperative Agreement project, including the key personnel and the roles each will play and the responsibilities each will assume. The applicant must also identify how it will ensure that trained staff with adequate knowledge of diverse disabilities, knowledge of/experience with diverse customized employment strategies, and employment-related experience for the target population will be available to manage and provide employment-related services. The staffing plan should:

(a) Summarize the qualifications, including relevant education, training, and experience of both key project personnel and project consultants or subcontractors, including their qualifications, relevant training, and experience. Attach copies of resumes in the Appendices.

(b) Describe the experience in serving persons who are chronically homeless and in providing customized employment services.

(c) Describe the extent to which the time commitments of the project director and other key project personnel are appropriate and adequate to meet the objectives of the proposed project.

C. Evaluation and Continuous Improvement Strategies (10 Points)

The proposal must demonstrate how the goals, objectives, and outcomes to be achieved by the proposed project are clearly specified and measurable; the extent to which performance feedback and continuous improvement are integral to the design of the proposed project; and the extent to which the applicant encourages involvement of people with disabilities and their families, experts and organizations, and other relevant stakeholders in project activities that lead to stronger evaluation and continuous improvement strategies. The proposal will be evaluated on:

(a) The extent to which the design of the proposed project is appropriate to, and will successfully address, the needs of the target population and other identified needs and the quality of the applicant's plans for recruiting and retaining the target population;

(b) The extent to which the design of the proposed project provides clear understanding of, and experience with, utilization of customized employment strategies for increasing employment, choice, and earnings of persons who are chronically homeless;

(c) The extent to which the proposed project will be coordinated, including demonstrated support from the state governor or designated agency implementing the Olmstead decision and commitment from key organizations, employers, and agencies;

(d) The extent to which the design of the project will facilitate an increase in the number of faith-based and community organizations that register as eligible training providers or as providers of supplemental and supportive services with their local One-Stop Center;

(e) The extent to which the management plans for project implementation is likely to achieve the objectives of the proposed project on time and within budget; and

(f) The extent to which the proposed project design features innovative strategies to implement customized employment and choice.

D. Documenting and Reporting (5 Points)

Applicants should outline their strategy for documenting and reporting the activities undertaken during the life of the Cooperative Agreement for ODEP's future use in working with other grantees and constituencies. In evaluating this section ODEP considers the following factors to be of particular importance and must be addressed:

(a) The extent to which the project will provide information to other programs about effective strategies suitable for replication or testing in other settings;

(b) The extent to which the methods of documentation and reporting include the objective use of performance measures that are clearly related to the intended outcomes of the project and will produce quantitative and qualitative data; and

(c) The adequacy of mechanisms for ensuring high-quality products and services from the proposed project.

Section III—HUD Grant Application Requirements (35 Points)

General: This Section contains information on the two programs for which you can apply. They are the Supportive Housing and the Shelter Plus Care programs. The purpose of the housing section of this SGA and application is to provide specific guidance on accessing financial resources for the provision of housing for chronically homeless persons when proposed as part of homeless assistance projects in which housing is directly linked to needed employment services funded through other components of this application or through other sources. Applicants may request funding for only ONE of the following three types of projects—Permanent Housing for Persons with Disabilities, Safe Havens, or Shelter Plus Care.

The Supportive Housing Program (SHP) [detailed in Section 4. Part I] promotes the development of supportive housing and services that help homeless persons transition from homelessness to living as independently as possible. Each project submitted under SHP must be classified as one of the program components described below. For this application and SGA, only two components of SHP are eligible for funding and all SHP projects must be for a three (3) year grant term.

(1) Permanent Housing for Persons with Disabilities (PH) is long-term housing for this population. It is community-based housing and supportive services as described above, designed to enable homeless persons with disabilities to live as independently as possible in a permanent setting. Permanent housing can be provided in one structure or several structures at one site or in multiple structures at scattered sites. All PH for Persons with Disabilities projects must comply with the program size limitations, as described in Section 424(c) of the Stewart B. McKinney-Vento Homeless Assistance Act, as amended.

(2) Safe Haven (SH) projects must meet the following criteria: (1) Have no limit on length of stay; (2) serve hard-to-reach homeless persons who have severe mental illness, are on the streets, and have been unable or unwilling to participate in supportive services; (3) provide 24-hour residence for an unspecified duration; (4) provide private or semiprivate accommodations; and (5) have overnight occupancy limited to 25 persons.

For many persons with mental illness who have been living on the streets, the transition to self-sufficiency is best made in stages, starting with a small, highly supportive environment where an individual can feel at ease, out of danger, and subject to no immediate service demands. Safe Havens do not require participation in services and referrals as a condition of occupancy. Rather, it is hoped that after a period of stabilization in a Safe Haven, residents will be more willing to participate in services and referrals, and will eventually be ready to move to more traditional forms of housing. Also, Safe Havens must have a lease agreement with each client.

The Shelter Plus Care (S+C) Program [detailed in Section 4. Part II] components were created by statute and designed to give applicants flexibility in devising appropriate housing and supportive services for homeless persons with disabilities. Assisted units may be of any type from group settings to apartments. You may design a program that has participants first living in a group setting with intensive supportive services, then moving to another setting but retaining the rental assistance during the term of the grant, as long as they stay within a S+C unit. The components that may be applied for are: tenant-based rental assistance, sponsor-based rental assistance and project-based rental assistance without rehabilitation. For this SGA, all Shelter Plus Care projects will be for a five (5) year grant term.

A. Match

Applicants must match Supportive Housing Program funds provided for acquisition and minor rehabilitation (new construction, major rehabilitation, and supportive services are not eligible activities under this SGA) with an equal amount of funds from other sources. For operating costs, since by law SHP can pay no more than 75 percent of the total operating budget for supportive housing, applicants must provide at least 25 percent of the total annual operating costs. The cash source may be the applicant, the Federal Government, state and local governments, or private resources. In-kind contributions are not eligible as a match under SHP.

Applicants must match rental assistance provided through the Shelter Plus Care Program on a dollar for dollar basis with supportive services.

B. Statutory and Regulatory Requirements

An applicant selected for funding as a result of the competition will be required to coordinate and integrate the homeless project with other mainstream health, social services, and employment programs for which homeless populations may be eligible, including Medicaid, State Children's Health Insurance Program, Temporary Assistance for Needy Families, Food Stamps, and services funded through the Mental Health Block Grant and Substance Abuse Block Grant, Workforce Investment Act, Welfare-to-Work grant program, SSI, SSDI, and Healthcare for Homeless Veterans Program. In addition, as a condition for award, any governmental entity serving as an applicant must agree to develop and implement, to the maximum extent practicable and where appropriate, policies and protocols for the discharge of persons from publicly funded institutions or systems of care (such as health care facilities, foster care or other youth facilities, or correction programs and institutions) in order to prevent such discharge from immediately resulting in homelessness for such persons. This condition for award is intended to emphasize that states and units of general local government are primarily responsible for the care of these individuals, and to forestall attempts to use scarce McKinney-Vento Act funds to assist such persons in lieu of state and local resources.

C. Special Provisions Applicable to This Notice

(a) Only new SHP and S+C projects, including expansions of HUD-funded existing projects, will be funded.

(b) Any project submitted under this SGA must be coordinated with the Continuum of Care plan for its region and must submit a certification of consistency with the applicable Continuum of Care plan.

(c) Only the following components of the SHP will be funded under this SGA: Permanent Housing and Safe Havens.

(d) Only tenant-, sponsor-, and project-based without rehabilitation components of S+C projects will be funded.

(e) The term of all proposed SHP projects must be three (3) years. The term of all proposed S+C projects must be five (5) years.

(f) New construction and substantial rehabilitation activities will not be eligible SHP activities under this notice. Minor rehabilitation activities, such as those required to remove lead-based paint or conform a unit to ADA standards, are eligible. All other activities eligible under the SHP program are eligible for purposes of this SGA.

(g) Applicants are asked to use approaches that can rapidly move chronically homeless persons into housing with necessary supportive services.

D. Other Program-Specific Requirements

Where an applicant for Supportive Housing Program funding is a state or unit of general local government that utilizes one or more nonprofit organizations to administer the homeless assistance project(s), administrative funds provided as part of the SHP grant must be passed on to the non-profit organization(s) in proportion to the administrative burden borne by them for the SHP project(s). States or units of general local government that pass on at least 50 percent of the administrative funds made available under the grant will be considered as having met this requirement. (Note: This requirement does not apply to the S+C Program, since paying the costs associated with the administration of these grants is ineligible by regulation. For the S+C program, administrative costs associated with the administration of rental assistance are eligible, but are capped at eight (8) percent of the total grant award).

E. Timeliness Standards

As an applicant, you are expected to initiate your approved projects promptly in accordance with the instructions of this announcement. In addition, if you fail to satisfy the following timeliness standards being established specifically for funding awarded under this collaborative SGA, the awarded funding may be withdrawn in whole or in part:

1. Supportive Housing Program

(a) Your award may be withdrawn if you do not demonstrate site control within three (3) months of the date of your grant award letter.

(b) Your award may be terminated if the following additional timeliness standards are not met:

• You must complete any minor rehabilitation activities permitted under the terms of your SHP award within nine (9) months of the date of the grant award letter.

• You must begin all activities that may proceed independent of minor rehabilitation activities within six (6) months of the date of the grant award letter.

2. Shelter Plus Care Program Components

Your award may be terminated if you do not meet the following timeliness standard:

• For Tenant-Based Rental Assistance, for Sponsor-Based Rental Assistance, and for Project-Based without Rehabilitation Rental Assistance, you must begin providing the rental assistance to at least a majority of the awarded units within six (6) months of the date of the grant award letter.

F. Action on Selected Applications

Selected applicants, including those conditionally selected, will be notified in writing. As necessary, conditionally selected applicants will subsequently be requested to submit additional project information, which may include documentation to show the project is financially feasible; documentation of firm commitments for cash match; documentation showing site control; information necessary for the performance of an environmental review, where applicable; and such other documentation as specified in writing to the applicant that confirms or clarifies information provided in the application. Conditionally selected applicants will be notified of the deadline for submission of such information. If a conditionally selected applicant is unable to meet any conditions for fund award within the specified time frame, those funds may be withdrawn and instead used to select the next highest ranked application(s) from the competition for which there are sufficient funds available.

G. Required Materials

The application provides the application materials, including the HUD-424 and certifications that must be used in applying for homeless assistance under this notice. In addition to the required narratives, the items that you must submit as part of the application for funding are the following:

(a) HUD-424

(b) Applicant Certification

(c) Consolidated Plan Certification

(d) Certification of Consistency with the Continuum of Care

(e) Special Projects Certifications-Discharge Policy and Mainstream Programs

(f) Disclosure of Lobbying Activities (only complete this form if applicant organization engages in lobbying activities)

(g) Applicant /Recipient Disclosure/Update Report

H. Certification Requirements

The application also contains certifications that the applicant will comply with fair housing and civil rights requirements and other federal requirements, and (where applicable) that the proposed activities are consistent with the HUD-approved Consolidated Plan of the applicable state or unit of general local government, including the Analysis of Impediments to Fair Housing Choice and the Action Plan to address these impediments. Projects funded under this SGA will also coordinate with the regional Continuum of Care process and will provide a certification of consistency with the applicable Continuum of Care plan, if any. Projects funded under this SGA shall operate in a fashion that does not deprive any individual of any right protected by the Fair Housing Act (42 U.S.C. 3601-19), Section 504 of the Rehabilitation Act of 1973 (29 U.S.C. 794), the Americans with Disabilities Act of 1990 (42 U.S.C. 12101 et seq.), Title VI of the Civil Rights Act of 1964 (42 U.S.C. 2000d), Section 109 of the Housing and Community Development Act of 1974 (42 U.S.C. 5301) or the Age Discrimination Act of 1974 (42 U.S.C. 6101).

I. Corrections to Deficient Applications

After the application due date, HUD may not, consistent with its regulations in 24 CFR part 4, subpart B, consider any unsolicited information you, the applicant, may want to provide. HUD may contact you to clarify an item in your application or to correct technical deficiencies. HUD may not seek clarification of items or responses that improve the substantive quality of your response to any rating factors. In order not to unreasonably exclude applications from being rated and ranked, HUD may contact applicants to ensure proper completion of the application and will do so on a uniform basis for all applicants. Examples of curable (correctable) technical deficiencies include failure to submit the proper certifications or failure to submit an application that contains an original signature by an authorized official. In each case, HUD will notify you in writing by describing the clarification or technical deficiency. HUD will notify applicants by facsimile or by USPS, return receipt requested. Clarifications or corrections of technical deficiencies in accordance with the information provided by HUD must be submitted within 14 calendar days of the date of receipt of the HUD notification. (If the due date falls on a Saturday, Sunday, or federal holiday, your correction must be received by HUD on the next day that is not a Saturday, Sunday or federal holiday.) If the deficiency is not corrected within this time period, HUD will reject the application as incomplete, and it will not be considered for funding.

J. Environmental Requirements

All assistance is subject to the National Environmental Policy Act and applicable related Federal environmental authorities. Section 208 of Public Law 106-377 (114 Stat. 1441, approved October 27, 2000) amended Section 443 of the Stewart B. McKinney-Vento Homeless Assistance Act to provide that for purposes of environmental review, projects shall be treated as assistance for special projects that are subject to Section 305(c) of the Multifamily Housing Property Disposition Reform Act of 1994, and shall be subject to HUD's regulations implementing that section. The effect of this provision is that environmental reviews for project activities are to be completed by responsible entities (states or units of general local government) in accordance with 24 CFR Part 58, whether or not the applicant is itself a state or a unit of general local government. Applicants (such as PHAs or nonprofit organizations) that are not states or units of general local government must request the unit of general local government to perform the environmental review. This statutory provision supersedes those portions of 24 CFR 582.230 and 583.230 that provide for automatic HUD environmental review in the case of applications from such entities. With this exception, conditional selection of projects is subject to the environmental review requirements of 24 CFR 582.230 and 583.230 as applicable. Recipients may not commit or expend any assistance or nonfederal funds on project activities (other than those listed in 24 CFR 58.22(c), 58.34 or 58.35(b)) until HUD has approved a Request for Release of Funds and environmental certification from the responsible entity. The expenditure or commitment of assistance or nonfederal funds for such activities prior to this HUD approval may result in the denial of assistance for the project under consideration.

K. Local Resident Employment

To the extent that any housing assistance funded through this collaborative SGA is used for housing rehabilitation (including reduction and abatement of lead-based paint hazards, but excluding routine maintenance, repair, and replacement), it is subject to Section 3 of the Housing and Urban Development Act of 1968, and the implementing regulations at 24 CFR part 135. Section 3, as amended, requires that economic opportunities generated by certain financial assistance for housing and community development programs shall, to the greatest extent feasible, be given to low- and very low-income persons, particularly those who are recipients of government assistance for housing, and to businesses that provide economic opportunities for these persons.

L. Relocation

The SHP and S+C programs are subject to the requirements of the Uniform Relocation Assistance and Real Property Acquisition Policies Act of 1970, as amended (URA). These requirements are explained in HUD Handbook 1378, Tenant Assistance, Relocation and Real Property Acquisition. Any person or family that moves, even temporarily, as a direct result of acquisition, rehabilitation, or demolition for a project that is assisted through one of these programs (whether or not HUD funded the acquisition, rehabilitation, or demolition) is entitled to relocation assistance. Displacement that results from leasing a unit in a structure may also trigger relocation requirements. Relocation assistance can be expensive. To avoid unnecessary costs, it is important to provide occupants with timely information notices, including a general information notice to be sent at the time the application is submitted to HUD. HUD Handbook 1378 contains guide form information notices. The HUD field office can provide a copy of the handbook and copies of appropriate information booklets to be provided to occupants. Accordingly, if the site is occupied, the applicant should contact the HUD field office in the planning stage to obtain advice, including help in estimating the cost of required relocation assistance.

M. Compliance With Fair Housing and Civil Rights Laws

As threshold items in this SGA:

(a) All applicants and their sub-recipients must comply with all Fair Housing and Civil Rights laws, statutes, regulations, and Executive Orders as enumerated in 24 CFR 5.105(a).

(b) If you, the applicant:

(i) Have been charged with a systemic violation of the Fair Housing Act alleging ongoing discrimination;

(ii) Are a defendant in a Fair Housing Act lawsuit filed by the Department of Justice alleging an on-going pattern or practice of discrimination; or,

(iii) Have received a letter of non-compliance findings, identifying on-going or systemic noncompliance, under Title VI of the Civil Rights Act, Section 504 of the Rehabilitation Act, or section 109 of the Housing and Community Development Act, and if the charge, lawsuit, or letter of findings has not been resolved to HUD's satisfaction before the application deadline stated in this NOFA, you may not apply for assistance under this NOFA. HUD will not rate and rank your application.

HUD's decision regarding whether a charge, lawsuit, or a letter of findings has been satisfactorily resolved will be based upon whether appropriate actions have been taken to address allegations of on-going discrimination in the policies or practices involved in the charge, lawsuit, or letter of findings. Examples of actions that may be taken prior to the application deadline to resolve the charge, lawsuit, or letter of findings, include but are not limited to:

(a) A voluntary compliance agreement signed by all parties in response to the letter of findings;

(b) A HUD-approved conciliation agreement signed by all parties;

(c) A consent order or consent decree; or

(d) A judicial ruling or a HUD Administrative Law Judge's decision that exonerates the respondent of any allegations of discrimination.

N. Conducting Business in Accordance With Core Values and Ethical Standards

Entities subject to 24 CFR parts 84 and 85 (most non-profit organizations and state, local and tribal governments or government agencies or instrumentalities who receive federal awards of financial assistance) are required to develop and maintain a written code of conduct (see Sec. 84.42 and 85.36(b)(3)). Consistent with regulations governing specific programs, your code of conduct must: prohibit real and apparent conflicts of interest that may arise among officers, employees, or agents; prohibit the solicitation and acceptance of gifts or gratuities by your officers, employees, and agents for their personal benefit in excess of minimal value; and, outline administrative and disciplinary actions available to remedy violations of such standards. If awarded assistance under this SGA, you will be required, prior to entering into an agreement with HUD, to submit a copy of your code of conduct and describe the methods you will use to ensure that all officers, employees, and agents of your organization are aware of your code of conduct. Failure to meet the requirement for a code of conduct will prohibit you from receiving an award of funds from HUD.

O. Delinquent Federal Debts

Consistent with the purpose and intent of 31 U.S.C. 3720B and 28 U.S.C. 3201(e), no award of federal funds shall be made to an applicant who has an outstanding delinquent federal debt until: (a) The delinquent account is paid in full; (b) a negotiated repayment schedule is established and at least one payment is received; or (c) other arrangements satisfactory to the Department of Housing and Urban Development are made prior to the deadline submission date.

P. Pre-Award Accounting System Surveys

HUD may arrange for a pre-award survey of the applicant's financial management system in cases where the recommended applicant has no prior federal support, the program area has reason to question whether the applicant's financial management system meets federal financial management standards, or the applicant is considered a high risk based upon past performance or financial management findings. HUD will not make an award to any applicant who does not have a financial management system that meets federal standards.

Q. Participation in HUD-Sponsored Program Evaluation

As a condition of the receipt of financial assistance under this SGA all successful applicants will be required to cooperate with all HUD staff or contractors performing HUD-funded research and evaluation studies.

R. HUD Reform Act

(A) Section 102 of the HUD Reform Act, Documentation and Public Access Requirements. Section 102 of the Department of Housing and Urban Development Reform Act of 1989 (42 U.S.C. 3545) (HUD Reform Act) and the regulations codified in 24 CFR part 4, subpart A, contain a number of provisions that are designed to ensure greater accountability and integrity in the provision of certain types of assistance administered by HUD. On January 14, 1992, HUD published a notice that also provides information on the implementation of Section 102 (57 FR 1942). The documentation, public access, and disclosure requirements of Section 102 apply to assistance awarded under this SGA as follows:

(1) Documentation, public access, and disclosure requirements. HUD will ensure that documentation and other information regarding each application submitted pursuant to this SGA are sufficient to indicate the basis upon which assistance was provided or denied. This material, including any letters of support, will be made available for public inspection for a five-year period beginning not less than 30 days after the award of the assistance. Material will be made available in accordance with the Freedom of Information Act (5 U.S.C. 552) and HUD's implementing regulations (24 CFR part 15).

(2) HUD Form 2880. HUD will also make available to the public for five years all applicant disclosure reports (HUD Form 2880) submitted in connection with this SGA. Update reports (also reported on HUD Form 2880) will be made available along with the applicant disclosure reports, but in no case for a period of less than three years. All reports, both applicant disclosures and updates, will be made available in accordance with the Freedom of Information Act (5 U.S.C. 552) and HUD's implementing regulations (24 CFR part 5).

(3) Publication of Recipients of HUD Funding. HUD's regulations at 24 CFR part 4 provide that HUD will publish a notice in the Federal Register to notify the public of all decisions made by the Department to provide:

(i) Assistance subject to Section 102(a) of the HUD Reform Act; and/or

(ii) Assistance provided through grants or Cooperative Agreements on a discretionary (non-formula, non-demand) basis, but that is not provided on the basis of a competition.

(4) Debriefing. Beginning 30 days after the awards for assistance are publicly announced and for at least 120 days after awards for assistance are publicly announced, HUD will provide a debriefing to any applicant requesting one on their application. All debriefing requests must be made in writing or by email by the authorized official whose signature appears on the HUD-424 or his or her successor in office, and submitted to the person or organization identified as the Contact under the section entitled “Further Information and Technical Assistance.” Information provided during a debriefing will include, at a minimum, the final score you received for each rating factor, final evaluator comments for each rating factor, and the final assessment indicating the basis upon which assistance was provided or denied.

(B) Section 103 of the HUD Reform Act. HUD's regulations implementing Section 103 of the Department of Housing and Urban Development Reform Act of 1989 (42 U.S.C. 3537a), codified in 24 CFR part 4, subpart B, section 4.26(2)(c) et. seq. and 4.28 apply to this funding competition. The regulations continue to apply until the announcement of the selection of successful applicants. HUD employees involved in the review of applications and in the making of funding decisions are limited by the regulations from providing advance information to any person (other than an authorized employee of HUD) concerning funding decisions or from otherwise giving any applicant an unfair competitive advantage. Persons who apply for assistance in this competition should confine their inquiries to the subject areas permitted under 24 CFR part 4.

Applicants or employees who have ethics related questions should contact the HUD Ethics Law Division at 202-708-3815. (This is not a toll-free number.) HUD employees who have specific program questions should contact the appropriate field office counsel or Headquarters counsel for the program to which the question pertains.

S. Environmental Impact

A Finding of No Significant Impact with respect to the environment has been made in accordance with the HUD regulations at 24 CFR part 50 that implement Section 102(2)(C) of the National Environmental Policy Act of 1969 (42 U.S.C. 4332). The Finding of No Significant Impact is available for public inspection during regular business hours in the Office of the General Counsel, Regulations Division, Room 10276, U.S. Department of Housing and Urban Development, 451 Seventh Street, SW., Washington, DC 20410-0500.

T. Glossary of Terms for the HUD Application

Applicant. An applicant is an entity that applies to HUD for funds. In order to be an applicant, you must submit an HUD 424. If selected for funding, the applicant becomes the grantee and is responsible for the overall management of the grant, including drawing grant funds and distributing them to project sponsors. The applicant may also be a project sponsor.

Applicant Certification. The form, required by law, in which an applicant certifies that it will adhere to certain statutory requirements, such as the Civil Rights Act of 1964.

Consolidated Plan. A long-term housing and community development plan developed by State and local governments and approved by HUD. The Consolidated Plan contains information on homeless populations. The plan also contains both narratives and maps, the latter developed by localities using software provided by HUD.

Consolidated Plan Certification. The form, required by law, in which a state or local official certifies that the proposed activities or projects are consistent with the jurisdiction's Consolidated Plan and, if the applicant is a State or unit of local government, that the jurisdiction is following its Consolidated Plan.

Homeless Person. A person sleeping in a place not meant for human habitation or in an emergency shelter. The programs covered by this application are not for populations who are at risk of becoming homeless.

Private Nonprofit Status (includes faith-based and community-based organizations). Private nonprofit status is documented by submitting either: (a) A copy of the Internal Revenue Service (IRS) ruling providing tax-exempt status under Section 501(c)(3) of the IRS Code; (b) documentation showing that the applicant is a certified United Way agency; or (c) a certification from a designated official of the organization that no part of the net earnings of the organization inures to the benefit of any member, founder, contributor, or individual; that the organization has a voluntary board; that the organization practices nondiscrimination in the provision of assistance; and that the organization has a functioning accounting system that provides for each of the following (mention each in the certification):

(a) Accurate, current and complete disclosure of the financial results of each federally sponsored project.

(b) Records that identify adequately the source and application of funds for federally sponsored activities.

(c) Effective control over and accountability for all funds, property and other assets.

(d) Comparison of outlays with budget amounts.

(e) Written procedures to minimize the time elapsing between the transfer of funds to the recipient from the U.S. Treasury and the use of the funds for program purposes.

(f) Written procedures for determining the reasonableness, allocability and allowability of costs.

(g) Accounting records including cost accounting records that are supported by source documentation.

Public Non-profit Status. Public nonprofit status is documented for community mental health centers by including a letter or other document from an authorized official stating that the organization is a public nonprofit organization.

Project Sponsor. The primary organization responsible for carrying out the proposed project activities. A project sponsor does not submit an HUD 424, unless it is also the applicant.

HUD 424. The information sheet required to be submitted by applicants requesting Federal Assistance.

Section III. HUD Grant Application Requirements

Part A. Supportive Housing Program (SHP) Application

General Information

Eligible and Ineligible Activities and Limitations. There are five activities that can be funded under SHP under this SGA and application for chronic homelessness. They are: acquisition, minor rehabilitation, leasing, operating costs, and administrative costs. Specific activities that are not eligible under the program components include:

(a) Support for permanent housing for non-disabled persons.

(b) Rehabilitation of a structure owned by a primarily religious organization, except in accordance with the requirements of 24 CFR 583.150(b)(2).

(c) Rehabilitation of a structure prior to an executed grant agreement with HUD. Acquisition and rehabilitation that exceeds statutory funding limitations. (See section I of this Section for the specific limits.)

(d) Homeless prevention activities.

HUD Eligible Applicants and Activities Chart
Elements | Supportive housing | Shelter plus care
Authorizing Legislation | Subtitle C of Title IV of the McKinney-Vento Homeless Assistance Act | Subtitle F of Title IV of the McKinney-Vento Homeless Assistance Act.
Implementing Regulations | 24 CFR part 583 | 24 CFR part 582.
Eligible Applicant(s) | • States | • States
| • Units of general local government | • Units of general local government
| • Special purpose units of government such as Public housing agencies (PHAs) | • PHAs
| • Private non-profit organizations |
| • CMHCs that are public non-profit organizations |
Eligible Components | • Permanent Housing for Persons with Disabilities • Safe havens | • Tenant-based • Sponsor-based • Project-based without Rehabilitation
Eligible Activities ¹ | • Rehabilitation • Leasing • Operating Costs | • Rental assistance
Eligible Populations | • Chronically Homeless Persons | • Chronically Homeless Persons
Term of Assistance | 3 years | 5 years.
¹ Homeless prevention activities are statutorily ineligible under these programs. Persons at risk of homelessness are statutorily ineligible for assistance under these programs.

Section III. HUD Grant Application Requirements

Part A. Supportive Housing Program (SHP) Application

1. Project Narrative

The Project Narrative is a description of your proposed project. Please respond to the items in this section according to the SHP program you propose to carry out, using the numbering below.

Project summary. Please provide the following:

(a) Applicant and sponsor names.

(b) Program component.

(c) Total SHP request.

(d) Activities for which you are requesting funds.

(e) The type of housing (e.g., apartments) proposed.

(f) The population(s) to be served.

(c) Chronically homeless population to be served. Briefly describe the following:

(a) Their characteristics and need for housing and supportive services.

(b) Where they will come from (e.g., streets and emergency shelters).

(c) The outreach plan to bring them into the project.

Project (Housing) Quality

Up to 12 points will be awarded based on the extent to which your application demonstrates how the housing is appropriate to the needs of the persons to be served and the innovative quality of the project.

(a) Describe how the TYPE (e.g. apartments) and SCALE (e.g. number of units, number of persons per unit) of the proposed housing will fit the needs of the participants.

(b) Describe how the basic COMMUNITY AMENITIES (e.g. medical facilities, grocery store, recreation facilities, schools, etc.) will readily be accessible to your clients.

(c) Describe how the housing will be ACCESSIBLE to persons with disabilities in accordance with applicable laws.

(d) Describe how services and treatment will be LINKED to permanent housing so that the target population will be sustained in that housing.

(e) For the permanent housing for persons with disabilities component where more than 16 persons will reside in a structure: Describe what local market conditions necessitate the development of a project of this size and how the housing will be integrated into the neighborhood.

Applicant Capacity

Up to 12 points will be awarded based on the experience and performance of the applicant/sponsor involved in carrying out the project.

(a) Describe the project applicant's/sponsor's experience specifically in providing housing for the chronically homeless.

(b) Describe the applicant's/sponsor's past experiences working with other community partners on the employment and training needs of homeless individuals.

(c) Describe the project applicant's/sponsor's performance in administering housing activities, especially in serving the population to be assisted by this project.

Timeliness

Up to 11 points will be awarded based on the demonstrated ability of the applicant and project sponsor to execute the program in a timely manner.

(a) Describe the applicant's and project sponsor's ability to achieve rapid project start-up based on site control, permitting, minor rehabilitation, and rehab and occupancy schedules.

(b) Describe the applicant's and project sponsor's ability to outreach to the target population and swiftly bring them into the program and occupy all units committed in the application.

Section III. HUD Grant Application Requirements

Part A. Supportive Housing Program (SHP) Application

2. Project Information (please type or print)

[To be completed by applicants requesting SHP funding.]

Section III. HUD Grant Application Requirements

Part A. Supportive Housing Program (SHP) Application

3. Program Component/Types

Please check the box that best classifies the project for which you are requesting funding. Check only one box. The components/types are:

☐ Permanent Housing for Persons with Disabilities

☐ Safe Havens

Section III. HUD Grant Application Requirements

Part A. Supportive Housing Program (SHP) Application

4. Existing Facilities and/or Activities Serving Homeless Persons (To be completed for new projects)

Will your proposed project use an existing homeless facility or incorporate activities that you are currently providing?

☐ Yes (Check one or more of the activities below that describe your proposed project, and proceed to section E.)

☐ No (Skip to section E.)

Facilities that you are currently operating and activities you are currently undertaking to serve homeless persons may only receive funding for the three purposes listed below. SHP funds cannot be used to fund ongoing activities. My project will:

☐ Increase the number of homeless persons served.

☐ Bring existing facilities up to a level that meets State and local government health and safety standards. If this box is checked, you must describe what standards the facility is not meeting, and why it does not meet the standards you described.

Section III. HUD Grant Application Requirements

Part A. Supportive Housing Program (SHP) Application

5. Number of Beds and Participants

This is composed of two charts:

Chart 1 is for recording the number of beds/bedrooms in the project.

Chart 2 is for recording the number of participants to be served.

Complete Chart 1 and Chart 2 based on the following instructions:

1. In the first column, please enter the requested information for all items at a point in time (a given night). You should only fill out this column if you checked “Yes” in section D. If you checked “No” in section D enter “N/A” in this column.

2. In the second column, enter the new number of beds and persons served at a point in time if this project is funded.

3. In the third column, enter the projected level (columns 1 and 2 added together) that your project will attain at a point in time.

4. In the fourth column, enter the number of persons to be served over the grant term.

Section III. HUD Grant Application Requirements

Part A. Supportive Housing Program (SHP) Application

6. Operations Budget

Complete the Chart on the following page for your new project's total operations budget. In the first column, the operating cost activity is given. You must enter the quantity (if applicable) for each operating item that will be paid for using SHP funds. Add any other eligible operating costs not listed on the chart that will be paid for using SHP funding. For staff positions, please include the job title, salary, percent of time allocated for the position, and fringe benefits. Please ensure that the total SHP dollars requested match the amount you entered in the “SHP Total Request” column on Line 5, Operations, in your Project Budget in Section I.

In the second column, enter the amount of SHP funding requested for each eligible operating cost that will be needed in your project.

Operating costs are those costs associated with the day-to-day operation of supportive housing. Operating costs support the function and the operation of the housing project. Examples of SHP eligible operating costs include utilities, maintenance, security and salaries of staff not delivering services, such as the project manager or executive director, and indirect operating costs that meet the standards of OMB Circulars A-87 and A-122.

If requesting SHP operating funds, only the portion of the costs directly related to the operation of the housing project is eligible. For example, if a project sponsor's executive director will spend 10% of his/her time providing management to the housing project, then (up to) 10% of his/her salary can be charged as an SHP operating expense. As another example, in cases of shared utilities, SHP operating funds may pay only for the portion of the utilities associated with the housing project based on the square footage of the project's space. If the housing project occupies 25% of the building's space, then (up to) 25% of the monthly utility bill can be paid for using SHP operating funds.

(a) SHP operating funds may not be used to pay for the following costs:

(b) Operating costs of a supportive services only facility;

(c) Administrative expenses such as audits and preparing HUD reports;

(d) Rent of space for supportive housing and/or supportive services (see Real Property Leasing);

(e) The payment of principal and interest on a loan for a facility currently being used as supportive housing and/or for the delivery of services; and

(f) Depreciation, because it does not constitute an incurred cost that requires a cash outlay.

SHP funds can be used to pay up to 75% of the total operations budget for the housing project. This means that the project sponsor must make a cash payment for 25% of the project's operating budget annually.

Example:

Operating costs | SHP dollars requested (3 years)
Utilities | 32,000
Maintenance Engineer (salary, % time, fringe benefits) $40,000/annually .20 × .15 fringe benefits × 3 years = $18,400 | 27,600

Chart: Operating Costs

Identify the day-to-day costs of operating supportive housing that will be paid for using SHP funding during the term of the project.

Operating costs | SHP dollars requested (3 years)
Maintenance, Repair |
Staff (position, salary, % of time, fringe benefits) |
Utilities |
Equipment (lease/buy) |
Supplies (quantity) |
Insurance |
Furnishing (quantity) |
Relocation (no. of persons) |
Food (perishable/non-perishable) |
Other operating costs (please specify**) |
Other operating costs (please specify**) |
Other operating costs (please specify**) |
Total SHP Dollars Requested* |
Total Operating Costs Budget*** |
* Total SHP dollars requested must equal the amount shown in the “SHP Total Request” column, Line 5, of the Project Budget portion of Section I.
** If not specified, the costs will be removed from the budget.
*** The total operating costs entered here must equal the amount shown in the “Total Budget” column, Line 5 of the Project Budget portion of Section I.

Section III. HUD Grant Application Requirements

Part A. Supportive Housing Program (SHP) Application

7. Leasing

SHP funds may be used to lease space for supportive housing. If you are requesting SHP leasing funds, fill out the appropriate table(s) that follows. Housing space may be in the form of scattered-site leased units, or within a structure. The structures to be leased may be structures currently configured for, or structures to be converted to provide, supportive housing. Under no circumstances may SHP leasing funds be used to lease units or structures owned by the project sponsor, the selectee, or their parent organizations. This includes organizations that are members of a general partnership where the general partnership owns the structure.

A. Leased Unit(s) for Housing

If you propose to lease units in more than one metropolitan or non-metropolitan area, fill in the appropriate number of tables for each area with a different FMR or actual rent.

• Please reproduce this Section as needed to accommodate projects using more than one FMR or actual rent.

• Enter the number of unit(s) by the bedroom size to be leased and the lower of the actual rent or the FMR as published in the Federal Register on September 30, 2002. (FMRs may be found using this Web site: http://www.huduser.org/datasets/fmr.html) The space to be leased may be scattered-site (e.g., one-bedroom apartments in five different apartment complexes) or contained within a structure (e.g., a group home with six bedrooms).

• Multiply the number of units by the FMR or actual rent, whichever is lower, by the length of the grant (# of units × FMR or actual rent × months based on grant term) and enter the result in the total column.

• Please note that the FMR for a single room occupancy (SRO) unit is equal to 75% (0.75) of the 0-bedroom FMR. The FMRs for unit sizes larger than 4-bedrooms are calculated by adding 15% to the 4-bedroom FMR for each extra bedroom. For example, the FMR for a 5-bedroom unit is 1.15 times the 4-bedroom FMR, and the FMR for a 6-bedroom unit is 1.30 times the 4-bedroom FMR.

• If your project has been approved for exception rents, use those amounts when completing these charts and submit your approval letter with this document.

• Chart A should be filled out only if you will lease individual units or structures that are currently configured for housing and, therefore, an FMR or actual rent can be used. If you have negotiated an actual rent(s) that is lower than the FMR, please use that amount instead of the FMR. The actual rent may not exceed the FMR.

Chart A:

Name of metropolitan or non-metropolitan FMR area:

Address (indicate if scattered site):

Size of units | No. of units | FMR or actual rent | No. of months | Total
1. SRO | X |  |  |
2. 0 bdrm | X |  |
3. 1 bdrm | X |  |
4. 2 bdrm | X |  |
5. 3 bdrm | X |  |
6. 4 bdrm | X |  |
7. 5 bdrm | X |  |
8. 6 bdrm | X |  |
9. Other | X |  |
10. Totals |  |  |  | $

B. Leased Structure(s) for Housing

If you will lease a structure or portion of a structure for housing, fill out Chart B below using a monthly leasing cost that is comparable to and no more than the rents being charged for similar space in the area. This applies to structures already configured for housing and for those that will be converted. If your project has more than one structure, reproduce Chart B and fill it out starting with structure 2.

• Multiply the monthly leasing costs by the number of months requested for funding and enter the result in the total column.

• Chart B should be filled out only if you will lease a structure or portion of a structure for which an FMR is not applicable.

Chart B:

Address:

Structure | Monthly leasing cost | Number of months | Total
| $ | = | $

Section III. HUD Grant Application Requirements

Part A. Supportive Housing Program (SHP) Application

8. Homeless Veterans

Are veterans among the homeless subpopulations your project will specifically target and intends to serve?

☐ Yes ☐ No

If your answer to the first question is yes, are veterans the primary target population of your proposed project?

☐ Yes ☐ No

Section III. HUD Grant Application Requirements

Part A. Supportive Housing Program (SHP) Application

9. Budget

This section consists of two budgets—a project budget and a structure budget. Please refer to the budgets for specific instructions. The project budget is to be used for all projects.

When developing your budget(s), please keep in mind that each structure can receive the maximum amount of funds according to the following per-structure limits:

• For acquisition and/or rehabilitation, the SHP request for these activities combined is limited by law to between $200,000 and $400,000 depending on whether the structure is in a HUD-identified high-cost area for acquisition and rehabilitation. Contact your local HUD Field Office to determine if your project is in a high-cost area, and, if so, which of the following percentages or limits apply:

• 100% to 119%, the limit is $200,000

• 120% to 139%, the limit is $250,000

• 140% to 159%, the limit is $300,000

• 160% to 174%, the limit is $350,000

• 175% and up, the limit is $400,000

• If you request funds for acquisition and/or rehabilitation, the law requires that you match the requested amount with an equal amount of cash for the activities. Documentation of matching funds is not required in this application; however, you will be asked to submit it at a later date.

Project Budget (complete all 3 columns)

• Enter the amount of SHP funds requested by line item in the “SHP Total Request” column. You may request funding for three years. The three-year term will be the same for leasing, and operations. In the “Applicant Cash” column, enter the amount of other cash that will be contributed to the project. This amount plus the SHP request must equal the “Total Budget” amount for the project, as shown in the last column.

• If your project contains one structure or no structures this is the only budget you need to fill out. If your project contains multiple structures, please add up the SHP structure budgets on the next page and enter those totals below.

• HUD will review this chart in relation to the proposed activities and the number of persons to be served to determine whether the project is cost-effective (which is a threshold criterion).

• Applicants requesting funds for acquisition and/or rehabilitation must comply with Section 423 of the Stewart B. McKinney-Vento Homeless Assistance Act, as amended.

The grant term for all projects is for 3 years.

Structure Budget for Projects With More Than One Structure

If your project contains only one structure or no structures, please fill out only the project budget on the previous page. If, however, your project contains more than one structure, fill out the information requested below for the number of structures your project proposes. Do not fill out structure budgets for scattered site leasing projects unless SHP funds for rehabilitation are being requested. For each structure budget, enter the amount of SHP funds requested by line item in the first column. For leasing and operations, the amounts you enter should be for three years, which is the SHP grant term. The term will be the same for leasing and operations. In the second column, enter the total cost for each line item, which is the SHP request plus all other funds needed to pay for each line item. For your convenience, four structure budgets are provided below. You may reproduce this page if your project will have five or more structures; however, please attach the additional structure budgets to this page and label them appropriately starting with Structure E. Enter administrative costs only on the Project Budget.

Section III. HUD Grant Application Requirements

Part A. Supportive Housing Program (SHP) Application

10. Additional Information

HUD needs the following information to respond to public inquiries about program benefit. Your responses will not affect in any way the scoring of your submission.

1. Which of the following subpopulations will your project serve? (Check all that apply)

☐ Severely Mentally Ill

☐ Chronic Substance Abusers

☐ Dually Diagnosed

☐ AIDS or Related Diseases

2. Will the proposed project be located in a rural area? (A project is considered to be in a rural area when the project will be primarily operated either (1) in an area outside of a Metropolitan Area, or (2) in an area outside of the urbanized areas within a Metropolitan Area.)

☐ Yes

☐ No

3. Is the sponsor of the project a religious organization, or a religiously affiliated or motivated organization? (Note: This characterization of religious is broader than the standards used for defining a religious organization as “primarily religious” for purposes of applying HUD's church/state limitations. For example, while the YMCA is often not considered “primarily religious” under applicable church/state rules, it would likely be classified as a religiously motivated entity.)

☐ Yes

☐ No

4. Will the proposed project be located in, or make use of, surplus military buildings or properties that are located on a military base that is covered by the provisions of the Base Closure Community Redevelopment and Homeless Assistance Act of 1994?

☐ Yes

☐ No

If “yes,” please provide the name of the military installation:

Section III. HUD Grant Application Requirements

Part B. Shelter Plus Care Program (S+C) Application

General

This Section is for Shelter Plus Care projects. Eligible applicants for this program are States, units of local government and Public Housing Authorities.

Program Components

Shelter Plus Care (S+C) components were created by statute and designed to give applicants flexibility in devising appropriate housing and supportive services for homeless persons with disabilities. Assisted units may be of any type, from apartments to SRO-type units. You may design a program that has participants' first living in a group setting with intensive supportive services, then moving to another setting but retaining the rental assistance during the term of the grant, as long as they stay within a S+C unit.

Participants in S+C units receive supportive services. These services may be provided by the applicant, funded by the applicant but provided by a third party, or both funded and provided by a third party. Rental assistance provided through the S+C program must be matched in the aggregate on a dollar for dollar basis by the recipient with supportive services.

Tenant-based Rental Assistance (TRA) provides rental assistance that permits participants to choose their own housing. Participants retain the rental assistance even if they move. To help you provide supportive services or for purposes of controlling housing costs, you may require participants to live in a particular structure for the first year of assistance or to live in a particular area for the entire rental assistance period.

Sponsor-based Rental Assistance (SRA) provides rental assistance through contract(s) between the grant recipient and nonprofit organization(s), called a sponsor. The nonprofit organization may be a private nonprofit organization or a community mental health center established as a public nonprofit organization. The assisted units must be owned or leased by the sponsor. After a grant is awarded, should the sponsor lose its capacity to own or lease the assisted units, the grantee must identify an alternate sponsor in order to continue to serve the original number of persons proposed to be served.

Project-based Rental Assistance (PRA) without Rehabilitation provides rental assistance through a contract with a building owner(s). An applicant must enter into a contract with the building owner(s) for the full five-year period of assistance. The building owner must agree to accept eligible S+C participants to live in an assisted unit for this time period. Only minor (up to $3,000 per unit) rehabilitation is eligible under this component.

Persons With Disabilities

To be eligible to participate in a Shelter Plus Care funded project, a person must be both homeless and disabled.

Persons with disabilities are those who have a disability that:

• Is expected to be of long-continued and indefinite duration;

• Substantially impedes his or her ability to live independently; and

• Is such a nature that the disability could be improved by more suitable housing conditions. The disability may be a physical, mental, or emotional impairment, including an impairment due solely to alcohol or drug abuse.

The S+C Program specifically targets several disabilities. These targeted disabilities are:

• Serious mental illness

• Chronic alcohol and/or other drug abuse

• AIDS or related diseases

The disability may also be developmental. A severe, chronic developmental disability is characterized as

• Being caused by mental or physical impairment;

• Manifested before the person is 22 years old;

• Likely to continue indefinitely;

• Reflecting a need for a combination and sequence of special, inter-disciplinary, or generic care, treatment, or other services that are of lifelong or extended duration and are individually planned and coordinated; and

• Resulting in substantial functional limitations in at least three of the following areas: Self-care, receptive and expressive language, learning, mobility, self-direction, capacity for independent living, and economic self-sufficiency.

Section III. HUD Grant Application Requirements

Part B. Shelter Plus Care Program (S+C) Application

1. Project Narrative

This section is a description of your proposed project. Please respond to all of the items in this section. A project may include no more than one component and may be carried out by no more than one project sponsor.

1. Project summary. Please provide the following:

a. Names of applicant and sponsor (if appropriate)

b. Program component

c. Total S+C request

d. The type of housing and number of units proposed

e. The population to be served.

2. Homeless population to be served. Briefly describe the following:

a. Their characteristics and needs for housing and supportive services.

b. Where they will come from (streets and emergency shelters).

c. The outreach proposed to bring them into the project.

3. Project (Housing) Quality

Up to 12 points will be awarded based on the extent to which your application demonstrates how the housing is appropriate to the needs of the persons to be served.

a. Describe how the TYPE (e.g. apartments, group home) and SCALE (e.g. number of units, number of persons per unit) of the proposed housing will fit the needs of the participants.

b. Describe how the basic COMMUNITY AMENITIES (e.g. medical facilities, grocery store, recreation facilities, schools, etc.) will readily be accessible to your clients.

c. Describe how the housing will be ACCESSIBLE to persons with disabilities in accordance with applicable laws.

d. Describe how services and treatment will be LINKED to permanent housing so that the target population will be sustained in that housing.

4. Applicant Capacity

Up to 12 points will be awarded based on the experience of all organizations involved in carrying out the project.

a. Describe the project applicant's experience specifically in providing housing, especially for the population to be assisted by this project.

b. Describe the project applicant's performance in administering housing activities, especially in serving the population to be assisted by this project.

5. Timeliness

Up to 11 points will be awarded based on the demonstrated ability of the applicant and project sponsor to execute the program in a timely manner.

a. Describe the applicant's and project sponsor's ability to achieve rapid project start-up based on site control, permitting, minor rehabilitation, and occupancy and rehab schedules.

b. Describe the applicant's and project sponsor's ability to outreach to the target population and swiftly bring them into the program and occupy all units committed in the application.

[To be completed only by applicants requesting Shelter Plus Care funding.]

Section III. HUD Grant Application Requirements

Part B. Shelter Plus Care Program (S+C) Application

2. Component Selection

Select the S+C component that describes your project (check only one box)

☐ TRA ☐ SRA

☐ PRA without Rehab

Section III. HUD Grant Application Requirements

Part B. Shelter Plus Care Program (S+C) Application

Section III. HUD Grant Application Requirements

Part B. Shelter Plus Care Program (S+C) Application

4. Targeted Disabilities

In each category shown in the chart below, estimate, when the program is fully operational, the number of proposed participants expected to receive rental assistance at a point in time. Include each participant only once, in either Part 1 or Part 2. Part 1 should only include persons with disabilities who will not have family members living with them. Do not double count.

Section III. HUD Grant Application Requirements

Part B. Shelter Plus Care Program (S+C) Application

5. Major Milestones

Please complete the chart by entering the number of months planned from grant execution to the following milestones:

First unit occupied | Supportive services begin | Last unit occupied
months | months | months

Section III. HUD Grant Application Requirements

Part B. Shelter Plus Care Program (S+C) Application

6. Budget

Fill out the information requested for the S+C component you are requesting funding for. Make certain that only one component (TRA, SRA, PRA without rehab) budget is completed in this section.

Requested subsidy cannot exceed current FMR unless an Exception Rent approval letter is attached.

6.1. Tenant-based Rental Assistance (TRA) Project Budget

Applicants requesting TRA must complete the chart below showing the number of units expected to be used in your program. Multiply the applicable existing fair market rents (FMRs) as published in the Federal Register (FR) on September 30, 2002, by the number of units of a given size by 60 months. [Please be advised that the actual FMRs used in calculating your grant will be those in effect at the time the grants are approved which may be higher than those found in the September 30, 2002, FR Notice.] The SRO FMR should be rounded to the nearest whole number before multiplying by the number of units and the number of months. The FMR for each single room occupancy SRO unit is equal to 75 percent of the 0-bedroom FMR.

Complete a separate chart for each jurisdiction that has a different FMR.

Name of metropolitan or non-metropolitan area for the FMR used:

Dwelling United | Number of units | × | FMR $ | × | Number of months | = | Total amount requested $
SRO |  |  |  |  | 60
0 Bedroom |  |  |  |  | 60
One Bedroom |  |  |  |  | 60
Two Bedroom |  |  |  |  | 60
Three Bedroom |  |  |  |  | 60
Four Bedroom |  |  |  |  | 60
Other: (specify) |  |  |  |  | 60
Total TRA Assistance |  |  |  |  |  |  | $

6.2. Sponsor-based Rental Assistance (SRA) Project Budget

A. Non-profit Status: Non-profit organizations must attach to this section one of the following:

• Private non-profit organizations must submit a copy of their IRS ruling, providing tax-exempt status under Section 501 C (3) of the IRS Code of 1986, as amended, or documentation of nonprofit status as described in the Glossary on page 4.

• Public non-profit community mental health centers must attach a letter or other document acceptable to HUD from an authorized official stating that the organization is a public nonprofit organization.

B. Housing Description. Complete the chart below indicating the address of the specific structure(s) to be used, the number of units by bedroom size in each, and whether it is or will be owned or leased by the nonprofit entity.

Address (street, city, state & ZIP) | Number of units by size: SRO | Number of units by size: 0 | Number of units by size: 1 | Number of units by size: 2 | Number of units by size: 3 | Number of units by size: 4 | Number of units by size: 4 | Owned/Leased (check one) | Owned/Leased (check one)

Reminder: You may only have one sponsor per project.

C. Grant Amount. In the following chart, show the number of units by size expected to be owned or leased by the sponsor. Multiply the applicable existing FMRs as published in the Federal Register (FR) on September 30, 2002, by the number of units of a given size by 60 months. [Please be advised that the actual FMRs used in calculating your grant will be those in effect at the time the grants are approved which may be higher than those found in the September 30, 2002, FR Notice.]

The SRO FMR should be rounded to the nearest whole number before multiplying by the number of units and the number of months. The FMR for each SRO unit is equal to 75 percent of the 0-bedroom FMR. Complete a separate chart for each jurisdiction that has a different FMR.

Name of metropolitan or non-metropolitan area for the FMR used:

Dwelling units | Number of units | × | FMR $ | × | Number of months | = | Total amount requested $
SRO |  |  |  |  | 60 |  |
0 Bedroom |  |  |  |  | 60 |  |
One Bedroom |  |  |  |  | 60 |  |
Two Bedroom |  |  |  |  | 60 |  |
Three Bedroom |  |  |  |  | 60 |  |
Four Bedroom |  |  |  |  | 60 |  |
Other: (specify) |  |  |  |  | 60 |  |
Total SRA Assistance |  |  |  |  |  |  | $

6.3. Project-based Rental Assistance (PRA) Project Budget

A. Site. In the chart below, indicate the address of the property to be assisted.

Address: (street, city, state and ZIP)

B. Grant Amount. For each property, complete a separate copy of the appropriate chart below showing the number of units by size, expected to be assisted at this property. Multiply the applicable existing FMRs as published in the Federal Register (FR) on September 30, 2002, by the number of units of a given size by the number of months. [Please be advised that the actual FMRs used in calculating your grant will be those in effect at the time the grants are approved which may be higher than those found in the September 30, 2002, FR Notice.] The SRO FMR should be rounded to the nearest whole number before multiplying by the number of units and the number of months. The FMR for each SRO unit is equal to 75 percent of the 0-bedroom FMR.

Chart 1. PRA Units without Rehabilitation
Name of metropolitan or non-metropolitan area for the FMR used:
Dwelling units | Number of units | × | FMR $ | × | Number of months | = | Total amount requested $
SRO |  |  |  |  | 60 |  |
0 Bedroom |  |  |  |  | 60 |  |
One Bedroom |  |  |  |  | 60 |  |
Two Bedroom |  |  |  |  | 60 |  |
Three Bedroom |  |  |  |  | 60 |  |
Four Bedroom |  |  |  |  | 60 |  |
Other: (specify) |  |  |  |  | 60 |  |
Total PRA without Rehab $ |  |  |  |  |  |  | $

Section III. HUD Grant Application Requirements

Part B. Shelter Plus Care Program (S+C) Application

7. Homeless Veterans

Are veterans among the homeless subpopulation(s) your project will specifically target and intend to serve?

☐ Yes ☐ No

If your answer to the first question is yes, are veterans the primary target population of your proposed project?

☐ Yes ☐ No

Section III. HUD Grant Application Requirements

Part B. Shelter Plus Care Program (S+C) Application

8. Additional Information

HUD needs the following information to respond to public inquiries about program benefit. Your responses will not affect in any way the scoring of your submission.

Which of the following subpopulations will your project serve? (Check all that apply)

☐ Severely Mentally Ill

☐ Chronic Substance Abusers

☐ Dually Diagnosed

☐ AIDS or Related Diseases

Will the proposed project be located in a rural area? (A project is considered to be in a rural area when the project will be primarily operated either (1) in an area outside of a Metropolitan Area, or (2) in an area outside of the urbanized areas within a Metropolitan Area.)

☐ Yes

☐ No

Is the sponsor of the project a religious organization, or a religiously affiliated or motivated organization? (Note: This characterization of religious is broader than the standards used for defining a religious organization as “primarily religious” for purposes of applying HUD's church/state limitations. For example, while the YMCA is often not considered “primarily religious” under applicable church/state rules, it would likely be classified as a religiously motivated entity.)

☐ Yes

☐ No

Will the proposed project be located in, or make use of, surplus military buildings or properties that are located on a military base that is covered by the provisions of the Base Closure Community Redevelopment and Homeless Assistance Act of 1994?

☐ Yes

☐ No

If “yes,” please provide the name of the military installation:

Additional stipulations for HUD applicants follow:

Executive Order 13202, Preservation of Open Competition and Government Neutrality Towards Government Contractors' Labor Relations on federal and federally-funded Construction Contracts. Compliance with HUD regulations at 24 CFR 5.108 implementing Executive Order 13202 is a condition of receipt of assistance under this SGA.

Procurement of Recovered Materials. State agencies and agencies of a political subdivision of a state, including PHAs, that are using assistance under this SGA for procurement, and any person contracting with such an agency with respect to work performed under an assisted contract, must comply with the requirements of Section 6002 of the Solid Waste Disposal Act, as amended by the Resource Conservation and Recovery Act. In accordance with Section 6002, these agencies and persons must procure items designated in guidelines of the Environmental Protection Agency at 40 CFR Part 247 that contain the highest percentage of recovered materials practicable, consistent with maintaining a satisfactory level of competition, where the purchase price of the item exceeds $10,000 or the quantity acquired in the preceding fiscal year exceeded $10,000; must procure solid waste management services in a manner that maximizes energy and resource recovery; and must have established an affirmative procurement program for procurement of recovered materials identified in the EPA guidelines.”

PART VIII. Monitoring and Reporting

DOL Monitoring: The ODEP is responsible for ensuring the effective implementation of each competitive Cooperative Agreement project in accordance with the provisions of this announcement and the terms of the Cooperative Agreement award document. Applicants should assume that ODEP staff, or their designees (i.e., VETS, ETA, or HUD), will conduct on-site project reviews periodically. Reviews will focus on timely project implementation, performance in meeting the Cooperative Agreement's programmatic goals and objectives, expenditures of Cooperative Agreement funds on allowable activities, integration and coordination with other resources and service providers in the local area, project management, and administration of project activities. The Ending Homelessness through Employment and Housing Cooperative Agreements may be subject to other additional reviews, at the discretion of the ODEP.

DOL Reporting: In addition to the combined HUD and DOL Annual Performance Report cited at the end of this Section, DOL Cooperative Agreement awardees will be required to submit to DOL quarterly financial and narrative progress reports for those quarters other than the one that coincides with the HUD and DOL Annual Performance Report. Also, all awardees will be expected to provide demographic and other types of information on persons who are chronically homeless securing employment through use of “customized employment” strategies (including information on veteran status, types of jobs, wages, and benefits secured by specific homeless individuals with disabilities) and other areas addressed through the linkages and networks facilitated by project activities.

Awardees will be required to submit periodic financial and participation reports. Specifically, the following reports will be required:

A. Quarterly reports: The quarterly report is estimated to take ten hours to complete. The form for the Quarterly Report will be provided by the ODEP. The ODEP will work with the awardee to help refine the requirements of the report, which will, among other things, include measures of ongoing analysis for continuous improvement and customer satisfaction. Quarterly reports will be due for the 1st, 2nd & 3rd quarters of each year only (Note that the HUD and DOL Annual Performance Report required at the end of this section replaces the 4th quarter report).

B. Standard Form 269: Financial Status Report Form (FSR) will be Completed on a quarterly basis, using the on-line electronic reporting system.

C. Final Project Report: The final report will include an assessment of project performance and outcomes achieved. The final report is estimated to take 20 hours. This report will be submitted in hard copy and on electronic disk using a format and following instructions, which will be provided by the DOL. An outline of the final report is due to ODEP 45 days before termination of the Cooperative Agreement with a draft of the final report due to the ODEP 30 days before the termination of the Cooperative Agreement. The final report is due to the DOL within 30 days following the termination of the Cooperative Agreement.

All awardees must agree to cooperate with an independent evaluation to be conducted by ODEP. ODEP will arrange for and conduct this independent evaluation of the outcomes, impacts, and accomplishments of each funded project. Awardees must agree to make available records on all parts of project activity, including participant employment and wage data, and to provide access to personnel, as specified by the evaluator(s), under the direction of the ODEP. This independent evaluation is separate from the ongoing evaluation for continuous improvement required of the awardee for project implementation. The ODEP's evaluation of the Ending Homelessness through Employment and Housing Cooperative Agreements includes a process evaluation that includes extensive information pertaining to achievements under the Cooperative Agreement, summary information, number of people with disabilities receiving services, number of people employed through the One-Stop system and other sources.

Under support provided by the ETA, it is planned that a complimentary technical assistance effort will be undertaken. Awardees are expected to cooperate with this planned technical assistance initiative. Awardees must also agree to work with ODEP's other various technical assistance efforts in order to freely share with others what is learned about delivering customized employment services to the persons who are chronically homeless. Awardees must agree to collaborate with other research institutes, centers, studies, and evaluations that are supported by DOL, HUD, and other relevant federal agencies, as appropriate. Finally, awardees must agree to actively utilize the programs sponsored by the ODEP, including the Job Accommodation Network, (www.jan.wvu.edu), and the Employer Assistance Referral Network (www.earnworks.com).

HUD Monitoring and Reporting

HUD grantees will be required to complete the Annual Performance Report and will be monitored by their nearest HUD field office.

DOL and HUD Performance Reporting

With the assistance of the technical assistance providers, DOL and HUD grantees will produce a combined annual narrative report to:

1. Document lessons learned—Grantees should discuss the successes and challenges during the grant year regarding a. collaborative interagency efforts, b. new service delivery models; and c. working with the chronically homeless population; 2. Report success rates of program participants regarding a. completion of employment preparation, b. achievement of employment, c. increase in earned income, and d. sustaining of housing over time.

Part IX. Review Process and Evaluation Criteria

Applications will be reviewed by representatives from DOL and HUD in a comprehensive review process. First, representatives at DOL and HUD will separately score DOL and HUD sections, respectively, to determine a score for each agency's section. Next, an interdepartmental team will review the Collaborative Approach and will score this section jointly, according to the criteria set forth in this SGA. The scores from the agency-specific and the reviews of the Collaborative section will be totaled, and the applications will be ranked by score from highest to lowest nationally. In order to ensure maximum geographic diversity in the awards, the federal departments reserve the right to make selections out of rank order to provide for geographic distribution of funds.

The maximum total score for any applicant under this SGA is 100 points. These points are divided between the HUD and DOL sections and the Collaboration section. The HUD and DOL sections are worth a total of 70 points. Within these 100 points, HUD's portion is worth 35 points and the DOL section is worth 35 points. If an application is deficient in either the HUD or DOL section, the entire application will be disqualified. Deficiency is defined as scoring below 40 percent of the allotted points for either agency's section.

DOL Cooperative Agreement applications will be reviewed for compliance with the requirements of this notice. DOL's panel results are advisory in nature and not binding on the DOL Grant Officer. DOL may elect to award Cooperative Agreements with or without discussion with the offeror. In situations without discussions, an award will be based on the offeror's signature on the SF-424, which constitutes a binding offer. The DOL Grant Officer may consider any information that is available and will make final award decisions based on what is most advantageous to the government, considering such factors as:

• Panel findings;

• Geographic distribution of the competitive applications;

• Assuring a variety of program designs; and

• Availability of funds

Part X. Administrative Provisions

A. Administrative Standards and Provisions

Grantees are strongly encouraged to read these regulations before submitting a proposal. The Cooperative Agreements awarded under this SGA shall be subject to the following as applicable:

• 29 CFR Part 95—Grants and Agreements With Institutions of Higher Education, Hospitals, and Other Non-Profit Organizations, and With Commercial Organizations, Foreign Governments, Organizations Under the Jurisdiction of Foreign Governments, and International Organizations;

• 29 CFR Part 96—Audit Requirements for Grants, Contracts, and Other Agreements;

• 29 CFR Part 97—Uniform Administrative Requirement for Grants and Cooperative Agreements to State and Local Governments.

B. Allowable Costs

Determinations of allowable costs shall be made in accordance with the following applicable federal cost principles:

• State and Local Government—OMB Circular A-87

• Nonprofit Organizations—OMB Circular A-122

• Profit-Making Commercial Firms—48 CFR part 31

Profit will not be considered an allowable cost in any case.

C. Cooperative Agreement Assurances

As a condition of the award, the applicant must certify that it will comply fully with the nondiscrimination and equal opportunity provisions of the following laws:

• 29 CFR Part 31—Nondiscrimination in Federally-assisted programs of the Department of Labor, effectuation of Title VI of the Civil Rights Act of 1964;

• 29 CFR Part 32—Nondiscrimination on the Basis of Disability in Programs and Activities Receiving or Benefiting from Federal Assistance (Implementing section 504 of the Rehabilitation Act, 29 U.S.C. 794);

• 29 CFR Part 36—Nondiscrimination on the Basis of Sex in Education Programs or Activities Receiving Federal Financial Assistance (Implementing title IX of the Education Amendments of 1972, 20 U.S.C. 1681 et. seq.); and

• 29 CFR Part 37—Nondiscrimination and Equal Opportunity Provisions of the Workforce Investment Act of 1998 (WIA), (Implementing Section 188 of the Workforce Investment Act, 29 U.S.C. 2938).

The applicant must include assurances and certifications that it will comply with these laws in its Cooperative Agreement application. The assurances and certifications are attached as Appendices A, B.

Signed at Washington, DC this 11th day of July, 2003.
Lawrence J. Kuss,
DOL Grant Officer.

Signed at Washington, DC this 11th day of July, 2003.
Roy A. Bernardi,
Assistant Secretary for Community Planning and Development, U.S. Department of Housing and Urban Development.

Appendix A. DOL forms/certifications

• Application for Federal Assistance, Form SF 424

• Budget Information Sheet, Form SF 424A

• Assurances and Certifications Signature Page

• Survey on Ensuring Equal Opportunity

Appendix B. HUD forms/certifications

• HUD-424

• Applicant Certification

• Consolidated Plan Certification

• Certification of Consistency with the Continuum of Care

• Special Projects Certifications-Discharge Policy and Mainstream Programs

• Disclosure of Lobbying Activities (only complete this form if applicant organization engages in lobbying activities)

• Applicant/Recipient Disclosure/Update Report

BILLING CODE 4510-CX-P

[FR Doc. 03-18046 Filed 7-17-03; 8:45 am]

BILLING CODE 4510-CX-C